DEPARTMENT OF DEFENSE

48 CFR Chapter 2

Defense Federal Acquisition Regulation Supplement; Technical Amendments to Update Activity Names and Addresses

AGENCY: Department of Defense (DoD).

ACTION: Final rule.

SUMMARY: The Acting Director of Defense Procurement is amending the Defense Federal Acquisition Regulation Supplement to update names and addresses of DoD activities.

EFFECTIVE DATE: March 16, 2000.

FOR FURTHER INFORMATION CONTACT: Ms. Melissa Rider, Defense Acquisition Regulations Council, PDUSD(AT&L)DP(DAR), IMD 3D139, 3062 Defense Pentagon, Washington, DC 20301-3062. Telephone (703) 602-4245; telefax (703) 602-0350.

List of Subjects in 48 CFR Chapter 2

Government procurement.

Michele P. Peterson,
Executive Editor, Defense Acquisition Regulations Council.

Therefore, 48 CFR Appendix G to Chapter 2 is amended as follows:

1. The authority citation for 48 CFR Appendix G to Chapter 2 continues to read as follows:

Authority: 41 U.S.C. 421 and 48 CFR Chapter 1.

Appendix G—Activity Address Numbers

2. Appendix G to Chapter 2 is amended by revising Parts 2 through 10, adding Part 11, and revising Parts 12 through 14 to read as follows:

Appendix G—Activity Address Numbers

* * * * *

Part 2—Army Activity Address Numbers

DAAA03, B1 Pine Bluff Arsenal, ATTN: SIOPB-PO, 10020 Kabrich Circle, Pine Bluff, AR 71602-9500

DAAA08, B7 Rock Island Arsenal, ATTN: SIORI-CT, Rock Island, IL 61299-5000

DAAA09, BA U.S. Army Industrial Operations Command, ATTN: AMSIO-ACS, Rock Island, IL 61299-6000

DAAA10, 9X Blue Grass Army Depot Procurement Office, Building S-14, ATTN: SIOBG-PO 2091 Kingston Highway, Richmond, KY 40475-5115

DAAA12, ZM Sierra Army Depot, Building 74, Herlong, CA 96113-5009

DAAA14, BK Tooele Army Depot, Contracting Office, ATTN: SIOTE-CD, Building S-9, Tooele, UT 84074-0839

DAAA22, BV Watervliet Arsenal, ATTN: SIOWV-PQP, Building 10, Watervliet, NY 12189-4050

DAAA31, GJ McAlester Army Ammunition Plant, ATTN: SIOMC-PC 1 C Tree Road, McAlester, OK 74501-9002

DAAA32, 0P Crane Army Ammunition Activity ATTN: SIOCN-CT 300 Highway 361, Crane, IN 47522-5099

DAAA33 U.S. Army Combat Equipment Group-Asia 103 Guidance Road, Goose Creek, SC 29445-6060

DAAA34 Seneca Army Depot Activity, ATTN: SIOSE-IR 5786 State Route 96, Building 115, Romulus, NY 14541-5001

DAAB07, BG U.S. Army Communications-Electronics Command, CECOM Acquisition Center, ATTN: AMSEL-AC-CC-D-B, Building 1208, Fort Monmouth, NJ 07703-5008

DAAB08, 2V U.S. Army Communications-Electronics Command, CECOM Acquisition Center, ATTN: AMSEL-AC-CC-RT-S, Building 1208, Fort Monmouth, NJ 07703-5008

DAAB11, D0 U.S. Army Communications-Electronics Command, CECOM Acquisition Center Washington, ATTN: AMSEL-AC-W (Vint Hill Operations), 2461 Eisenhower Avenue, Alexandria, VA 22331-0700

DAAB15, BD U.S. Army Communications-Electronics Command, CECOM Acquisition Center Washington, ATTN: AMSEL-AC-W 2461 Eisenhower Avenue, Alexandria, VA 22331-0700

DAAB17, ZS U.S. Army Communications-Electronics Command, Tobyhanna Depot Contracting Office, ATTN: AMSEL-TY-KO 11 Hap Arnold Boulevard, Tobyhanna, PA 18466-5100,

DAAB18, E4 U.S. Army Communications-Electronics Command, Technology Applications Office, ATTN: AMSEL-DSA-TA 1671 Nelson Street, Fort Detrick, MD 21702-5004

DAAB22, E7 U.S. Army Communications-Electronics Command, APM-European Switched Systems, ATTN: AMSEL-DSA-SWE, CMR 421, Box 651, APO AE 09056-3104,

DAAB32, Y6 U.S. Army Communications-Electronics Command, Southwest Operations Office, ATTN: AMSEL-AC-CC-S, Building 61801, Room 3212, Fort Huachuca, AZ 85613-6000

DAAD01, B5 U.S. Army Materiel Command Acquisition Center, Yuma Proving Ground Office, ATTN: STEAA-CD-Y, Building 2100, Ocotilla Street, Yuma, AZ 85365-9106,

DAAD05, BM U.S. Army Materiel Command Acquisition Center, APG Contracting Division, Aberdeen Branch, ATTN: STEAA-AP-A 4118 Susquehanna Avenue, Aberdeen Proving Ground, MD 21005-3013

DAAD07, BN U.S. Army Materiel Command Acquisition Center, White Sands Missile Range Contract Division, ATTN: STEAA-WS, Building 126 West, Crozier Street, White Sands Missile Range, NM 88002-5201

DAAD09, BP U.S. Army Materiel Command Acquisition Center, Dugway Proving Ground Office, ATTN: STEAA-DP, 5330 Valdez Circle, Dugway, UT 84022-5000

DAAD11, B2 U.S. Army Materiel Command Acquisition Center, Rocky Mountain Arsenal Office, ATTN: STEAA-RM, 72nd and Quebec Streets, Commerce City, CO 80022-1748

DAAD13, ZU U.S. Army Materiel Command Acquisition Center, APG Contracting Division, Edgewood Branch, ATTN: STEAA-AP-E, 5183 Blackhawk Road, Aberdeen Proving Ground, MD 21010-5424

DAAD15, BB U.S. Army Materiel Command Acquisition Center, Natick Contracting Division, ATTN: AMSSB-ACN-M, Building 1, Kansas Street, Natick, MA 01760-5011

DAAD16, C5 U.S. Army Materiel Command Acquisition Center, Natick Contracting Division (R&D and BaseOps), ATTN: AMSSB-ACN-S, Building 1, Kansas Street, Natick, MA 01760-5011

DAAD17, 1Y U.S. Army Materiel Command Acquisition Center, Army Research Laboratory Contracting Division, ATTN: STEAA-AR, 2800 Powder Mill Road, Adelphi, MD 20783-1197

DAAD19,YU U.S. Army Materiel Command Acquisition Center, Army Research Laboratory Contracting Division, ATTN: STEAA-AO, PO Box 12211 Research Triangle Park, NC 27709-2211

DAAE07, BR TACOM—Warren, Corporate Contracting, ATTN: AMSTA-CM-C, E Eleven Mile Road, Warren, MI 48397-5000

DAAE20, DG TACOM—Rock Island, ATTN: AMSTA-CM-CR, Rock Island Arsenal, Rock Island, IL 61299-7630

DAAE24, BH TACOM—Anniston, Directorate of Contracting, ATTN: AMSTA-AN-CT, 7 Frankford Avenue, Building 221, Anniston, AL 36201-4199

DAAE30, 2T TACOM—Picatinny, Corporate Contracting Directorate, ATTN: AMST-CM-CP, Building 9, Picatinny Arsenal, NJ 07806-5000

DAAE32, D7 TACOM—Texarkana, ATTN: AMSTA-RR-P, 100 Main Drive, Building 110, Texarkana, TX 75507-5000

DAAG60, G8 United States Military Academy, Directorate of Contracting, ATTN: MADC, Building 681, West Point, NY 10996-1594

DAAG99, ZY U.S. Army Program Manager-SANG, ATTN: AMCPM-NGA, Unit 61304, APO AE 09803-1304

DAAH01, CC U.S. Army Aviation and Missile Command, ATTN: AMSAM-AC, Building 5303, Martin Road, Redstone Arsenal, AL 35898-5280

DAAH03, D8 U.S. Army Aviation and Missile Command, ATTN: AMSAM-AC, Building 5303, Martin Road, Redstone Arsenal, AL 35898-5280

DAAH10, D9 Aviation Applied Technology Directorate, AMCOM RDEC (Provisional), ATTN: AMSAM-RD-AA-C, Building 401, Lee Boulevard, Fort Eustis, VA 23604-5577

DAAH11, 0V U.S. Army Aviation and Missile Command, Charles Melvin Price Support Center, ATTN: AMSAM-AC-SS-BB, 100 First Street, Room 200, Granite City, IL 62040-1801

DAAH12, ZF IAS21WG, AMCOM RDEC (Provisional), ATTN: AMSAM-RD-AA-Z-I, Building 401, Lee Boulevard, Fort Eustis, VA 23604-5577

DAAH13, BJ Corpus Christi Army Depot, ATTN: SIOCC-RS-AQ, 308 Crecy Street, Corpus Christi, TX 78419-6170

DAAH 17, ZN Letterkenny Army Depot, ATTN: SIOLE-KO, 1 Overcash Avenue, Chambersburg, PA 17201-4152

DAAH23, BS U.S. Army Aviation and Missile Command, ATTN: AMSAM-AC, Building 5303, Martin Road, Redstone Arsenal, AL 35898-5280

DABT01, F6 U.S. Army Aviation Center, Contracting Office, ATTN: ATZQ-C, Building T-00116, Fort Rucker, AL 36362-5000

DABT02, 2A U.S. Army Chemical and Military Police, Centers and Fort McClellan, ATTN: ATZN-DOC, Building 241-C, Transportation Road, Fort McClellan, AL 36205-5000

DABT10, 2B U.S. Army Infantry Center and Fort Benning, ATTN: ATZB-KT, Building 6, Meloy Hall, Room 207, Fort Benning, GA 31905-5000

DABT11, 2C U.S. Army Signal Center and Fort Gordon, ATTN: ATZH-CT, Building 2102, Fort Gordon, GA 30905-5110

DABT19, 2D U.S. Army Combined Arms Center and Fort Leavenworth, ATTN: ATZL-GCC 600 Thomas Avenue, Fort Leavenworth, KS 66027-1389

DABT23, 2E U.S. Army Armor Center and Fort Knox, ATTN: ATZK-DC, Building 4022, Fort Knox, KY 40121-5000

DABT31, 2F U.S. Army Engineer Center and Fort Leonard Wood, ATTN: ATZT-DOC, Building 606, PO Box 140, Fort Leonard Wood, MO 65473-0140

DABT39, 2H U.S. Army Field Artillery Center and Fort Sill, ATTN: ATZR-Q, Building 1803, PO Box 3501, Fort Sill, OK 73503-0501

DABT43, 2J Carlisle Barracks, ATTN: ATZE-DOC-C, 314 Lovell Avenue, Suite 1, Carlisle Barracks, PA 17013-5072

DABT47, 2K U.S. Army Training Center and Fort Jackson, ATTN: ATZJ-DOC, Building 4340, Magruder Street, Fort Jackson, SC 29207-5491

DABT51, 2L U.S. Army Air Defense Artillery Center and Fort Bliss, ATTN: ATZC-DOC, Building 2021, 1733 Pleasonton Road, Fort Bliss, TX 79916-6816

DABT57, 2N Directorate of Peninsula Contracting, ATTN: ATZF-DPC, Building 2746, Harrison Loop, Fort Eustis, VA 23604-5293

DABT59, 2Q U.S. Army Combined Arms Support, Command and Fort Lee, ATTN: ATZM-DOC, 1830 Quartermaster Road, Fort Lee, VA 23801-1606

DABT60, 1L TRADOC Contracting Activity, ATTN: ATCA, Building 2798, Fort Eustis, VA 23604-5538

DABT61, BF The Judge Advocate General's School, U.S. Army, University of Virginia, ATTN: JAGS-SSL-B 600 Massie Road, Charlottesville, VA 22903-1781

DABT63, BL U.S. Army Intelligence Center and Fort Huachuca, ATTN: ATZS-DK, PO Box 12748, Fort Huachuca, AZ 85670-2748

DABT65, B0 Mission Contracting Activity at Fort Leavenworth, ATTN: ATOB-AL, Room 303, 600 Thomas Avenue, Fort Leavenworth, KS 66027-1389

DABT67, 0Q Commander DLIFLC & POM, ATTN: ATZP-DOC, Building 276, Plummer Street, Presidio of Monterey, CA 93944-5006

DACA01, DACW01, CK U.S. Army Engineer District, Mobile, ATTN: CESAM-CT, PO Box 2288, Mobile, AL 36628-0001

DACA02, DACW02 U.S. Army Corps of Engineers, ATTN: CEPR-ZA, 20 Massachusetts Avenue NW, Washington, DC 20314-1000

DACA03, DACW03, CL U.S. Army Engineer District, Little Rock, ATTN: CESWL-CT, PO Box 867, Little Rock, AR 72203-0867

DACA05, DACW05, CM U.S. Army Engineer District, Sacramento, ATTN: CESPK-CT, 1325 J Street, Sacramento, CA 95814-2922

DACA07, DACW07, CP U.S. Army Engineer District, San Francisco, ATTN: CESPN-CT, 333 Market Street, San Francisco, CA 94105-2195

DACA09, DACW09, CQ U.S. Army Engineer District, Los Angeles, ATTN: CESPL-CT, PO Box 532711, Los Angeles, CA 90053-2325

DACA17, DACW17, CS U.S. Army Engineer District, Jacksonville, ATTN: CESAJ-CT, PO Box 4970, Jacksonville, FL 32232-0019

DACA21, DACW21, CV U.S. Army Engineer District, Savannah, ATTN: CESAS-CT, PO Box 889, Savannah, GA 31402-0889

DACA23, DACW23, CX U.S. Army Engineer District, Chicago, ATTN: CELRC-CT, 111 North Canal Street, Chicago, IL 60606-7206

DACA25, DACW25, CD U.S. Army Engineer District, Rock Island, Clock Tower Building, ATTN: CEMVR-CT, PO Box 2004, Rock Island, IL 61204-2004

DACA27, DACW27, CY U.S. Army Engineer District, Louisville, ATTN: CELRL-CT, PO Box 59, Louisville, KY 40201-0059

DACA29, DACW29, CZ U.S. Army Engineer District, New Orleans, ATTN: CEMVN-CT, PO Box 60267, New Orleans, LA 70160-0267

DACA31, DACW31, DA U.S. Army Engineer District, Baltimore, Contracting Division, ATTN: CENAB-CT, PO Box 1715, Baltimore, MD 21203-1715

DACA33, DACW33, DB U.S. Army Engineer District, New England, ATTN: CENAE-CT, 696 Virginia Road, Concord, MA 01742-2751

DACA35, DACW35, DC U.S. Army Engineer District, Detroit, ATTN: CELRE-CT, PO Box 1027, Detroit, MI 48321-1027

DACA37, DACW37, DD U.S. Army Engineer District, St. Paul, ATTN: CEMVP-CT, 190 Fifth Street East, St. Paul, MN 55101-1638

DACA38, DACW38, DE U.S. Army Engineer District, Vicksburg, ATTN: CEMVK-CT, 4155 Clay Street, Vicksburg, MS 39183-3435

DACA41, DACW41, DH U.S. Army Engineer District, Kansas City, ATTN: CENWK-CT, 700 Federal Building 60l East 12th Street, Kansas City, MO 64106-2896

DACA42, DACW42, DF Vicksburg Consolidated Contracts Office, ATTN: ERDC, 4155 Clay Street, Vicksburg, MS 39183-3435

DACA43, DACW43, DJ U.S. Army Engineer District, St. Louis, ATTN: CEMVS-CT, 1222 Spruce Street, St. Louis, MO 63103-2833

DACA45, DACW45, DK U.S. Army Engineer District, Omaha, ATTN: CENWO-CT, 215 North 17th Street, Omaha, NE 68102-4978

DACA47, DACW47, DM U.S. Army Engineer District, Albuquerque, ATTN: CESPA-CT, 4101 Jefferson Plaza NE, Albuquerque, NM 87109-3435

DACA49, DACW49, DN U.S. Army Engineer District, Buffalo, ATTN: CELRB-CT, 1776 Niagara Street, Buffalo, NY 14207-3199

DACA51, DACW51, CE U.S. Army Engineer District, New York, Contracting Division, ATTN: CENAN-CT, 26 Federal Plaza, New York, NY 10028-0090

DACA54, DACW54, DQ U.S. Army Engineer District, Wilmington, ATTN: CESAW-CT, PO Box 1890, Wilmington, NC 28402-1890

DACA56, DACW56, DS U.S. Army Engineer District, Tulsa, ATTN: CESWT-CT, 1645 South 101st East Avenue, Tulsa, OK 74128-4609

DACA57, DACW57, DT U.S. Army Engineer District, Portland, ATTN: CENWP-CT, PO Box 2946, Portland, OR 97208-2946

DACA59, DACW59, DV U.S. Army Engineer District, Pittsburgh, ATTN: CELRP-CT, 1000 Liberty Avenue, Pittsburgh, PA 15222-4186

DACA60, DACW60, DW U.S. Army Engineer District, Charleston, ATTN: CESAC-CT, PO Box 919, Charleston, SC 29402-0919

DACA61, DACW61, CF U.S. Army Engineer District, Philadelphia, Contracting Division, ATTN: CENAP-CT, 110 Penn Square East, Wanamaker Building, Philadelphia, PA 19107-3390

DACA62, DACW62, DX U.S. Army Engineer District, Nashville ATTN: CELRN-CT, PO Box 1070, Nashville, TN 37202-1070

DACA63, DACW63, DY U.S. Army Engineer District, Fort Worth, ATTN: CESWF-CT, PO Box 17300, Fort Worth, TX 76102-0300

DACA64, DACW64, DZ U.S. Army Engineer District, Galveston, ATTN: CESWG-CT, PO Box 1229, Galveston, TX 77553-1229

DACA65, DACW65, EA U.S. Army Engineer District, Norfolk, ATTN: CENAO-CT, 803 Front Street, Norfolk, VA 23510-1096

DACA66, DACW66, EB U.S. Army Engineer District, Memphis, ATTN: CEMVM-CT, 167 North Main Street, Room B-202, Memphis, TN 38103-1894

DACA67, DACW67, EC U.S. Army Engineer District, Seattle, ATTN: CENWS-CT, PO Box 3755, Seattle, WA 98124-3755

DACA68, DACW68, YW U.S. Army Engineer District, Walla Walla, ATTN: CENWW-CT, 201 North 3rd Avenue,Walla Walla, WA 99362-1876

DACA69, DACW69, CG U.S. Army Engineer District, Huntington, ATTN: CELRH-CT, 502 8th Street, Huntington, WV 25701-2070

DACA72, DACW72, ZA U.S. Army Humphreys Engineer Center Support Activity, ATTN: CEHEC-CT, Kingman Building, Alexandria, VA 22315-3860

DACA75, DACW75, ZC U.S. Army Engineer Ordnance Program Division, ATTN: CETAC-OP-C, APO AE 09803-1303

DACA78, DACW78, 9V Transatlantic Programs Center, ATTN: CETAC-CT 201 Prince Frederick Drive, Winchester, VA 22602-5000

DACA79, DACW79, 2R U.S. Army Engineer District, Japan, ATTN: CEPOJ-CT Unit 45010, APO AP 96338-5010

DACA81, DACW81, CN U.S. Army Engineer District, Far East, ATTN: CEPOF-CT, Unit 15546, APO AP 96205-0610

DACA83, DACW83, ZH U.S. Army Engineer District, Honolulu, ATTN: CEPOH-CT, Building 230, Fort Shafter, HI 96858-5540

DACA85, DACW85, ZJ U.S. Army Engineer District, Alaska, ATTN: CEPOA-CT, PO Box 898, Anchorage, AK 99506-0898

DACA87, DACW87, ZW U.S. Army Engineer and Support Center, Huntsville, ATTN: CEHNC-CT, PO Box 1600, Huntsville, AL 35807-4301

DACA90, DACW90, 2S U.S. Army Engineer District, Europe, ATTN: CENAU-CT, CMR 410, Box 7, APO AE 09096-9401

DADA03, 8W Fitzsimons U.S. Army Garrison, Directorate of Contracting, ATTN: MCHG-DC, 205 McCloskey Avenue, Aurora, CO 80045-5000

DADA08, BT Dwight David Eisenhower Medical Center, Southwest Regional Contracting Office, ATTN: MCAA-SE, 39706 40th Street, Fort Gordon, GA 30905-5650

DADA09, YY William Beaumont Army Medical Center, Great Plains Regional Contracting Office, ATTN: MCAA-GP, Building 7777, 5000 North Piedras Street, El Paso, TX 79920-5001

DADA10, ZQ U.S. Army Medical Command, Medical Contracting Center, ATTN: MCAA-C, Building 4197, 2107 17th Street, Fort Sam Houston, TX 78234-5015

DADA13, 0W Madigan Army Medical Center, Western Regional Contracting Office, ATTN: MCAA-W, 9933A West Johnson Street, Tacoma, WA 98431-1110

DADA15, 0X Walter Reed Army Medical Center, Directorate of Contracting, ATTN: MCHL-ZC, Building T-20, 6825 16th Street NW, Washington, DC 20307-5000

DADA16, 0Y Tripler Army Medical Center, Pacific Regional Contracting Office, ATTN: MCAA-P, Building 160, Krukowski Road, Honolulu, HI 96850-5000

DADW30, 0F Fort Myer Military Community, Directorate of Contracting, ATTN: ANMY-OC, 204 Lee Avenue, Fort Myer, VA 22211-1199

DADW35, 2M MDW Acquisition Center, 9410 Jackson Loop, Fort Belvoir, VA 22060-5134

DADW36, 1J Fort Meade Directorate of Contracting, ATTN: ANME-OC, Building 2234, Fort George G. Meade, MD 20755-5081

DADW39, OS Fort Hamilton Military Community, ATTN: ANFH-GC, Building 111, Brooklyn, NY 11252

DADW49, 0M National Defense University, Building 62, Room 203, 300 5th Avenue, Fort McNair, DC 20319-5066

DAHA01, 9B USPFO for Alabama, PO Box 3715, Montgomery, AL 36109-0715

DAHA02, 0G USPFO for Arizona, 5645 East McDowell Road, Phoenix, AZ 85008-3442

DAHA03, 9D USPFO for Arkansas, Camp Robinson, North Little Rock, AR 72199-9600

DAHA04, 9N USPFO for California, PO Box 8104, San Luis Obispo, CA 93403-8104

DAHA05, Z0 USPFO for Colorado, ATTN: Mail Stop 53, 660 South Aspen Street, Building 1005, Aurora, CO 80011-9511

DAHA06, 1S USPFO for Connecticut, State Armory, ATTN: Contracting Officer, 360 Broad Street, Hartford, CT 06105-3795

DAHA07, 9A USPFO for Delaware, Grier Building, 1161 River Road, New Castle, DE 19720-5199

DAHA08, 2W USPFO for Florida, PO Box 1008, St. Augustine, FL 32085-1008

DAHA09, C0 USPFO for Georgia, PO Box 17882, Atlanta, GA 30316-0882

DAHA10, CU USPFO for Idaho, 3489 West Harvard Street, Boise, ID 83705-5004

DAHA11, 9E USPFO for Illinois, ATTN: PFOIL-PC, 1301 North McArthur Boulevard, Springfield, IL 62702-2399

DAHA12, 4E USPFO for Indiana, 2002 South Holt Road, Indianapolis, IN 46241-4839

DAHA13, 9L USPFO for Iowa, Camp Dodge, 7700 NW Beaver Drive, Johnston, IA 50131-1902

DAHA14, 4Z USPFO for Kansas, 2737 South Kansas Avenue, Topeka, KS 66611-1170

DAHA15, 6P USPFO for Kentucky, Boone National Guard Center, 120 Minuteman Parkway, Frankfort, KY 40601-6192

DAHA16, 0A USPFO for Louisiana, Building 39, New Orleans, LA 70146-0330

DAHA17, 0B USPFO for Maine, Camp Keys, Augusta, ME 04333-0032

DAHA18, 0C USPFO for Maryland, State Military Reservation, 301 Old Bay Lane, Havre de Grace, MD 21078-4094

DAHA19, 0D USPFO for Massachusetts, ATTN: Contracting Officer, 50 Maple Street, Milford, MA 01757-3604

DAHA20, 9F USPFO for Michigan, 3111 West Joseph Street, Lansing, MI 48913-5102

DAHA21, 9K USPFO for Minnesota, Camp Ripley, 15000 Highway 115, Little Falls, MN 56345-4173

DAHA22, CW USPFO for Mississippi, 144 Military Drive, Jackson, MS 39208-8880

DAHA23, 9H USPFO for Missouri, 7101 Military Circle, Jefferson City, MO 65101-1200

DAHA24, 9P USPFO for Montana, PO Box 1157, Helena, MT 59624-1157

DAHA25, 9S USPFO for Nebraska, 1234 Military Road, Lincoln, NE 68508-1092

DAHA26 USPFO for Nevada, 2601 South Carson Street, Carson City, NV 89701-5596

DAHA27, 9U USPFO for New Hampshire, PO Box 2003, Concord, NH 03302-2003

DAHA28, ZK USPFO for New Jersey, 131 Eggert Crossing Road, Lawrenceville, NJ 08648-2805

DAHA29 USPFO for New Mexico, ATTN: Contracting Officer, 47 Bataan Road, Santa Fe, NM 87502-4277

DAHA30, D2 USPFO for New York, 330 Old Niskayuna Road, Latham, NY 12110-2224

DAHA31, D3 USPFO for North Carolina, 4201 Reedy Creek Road, Raleigh, NC 27607-6412

DAHA32, D6 USPFO for North Dakota, PO Box 5511, Bismarck, ND 58506-5511

DAHA33, 9M USPFO for Ohio, 2811 West Dublin-Granville Road, Columbus, OH 43235-2788

DAHA34, 9J USPFO for Oklahoma, 3535 Military Circle NE, Oklahoma City, OK 73111-4398

DAHA35, 1X USPFO for Oregon, ATTN: USPFO-P, PO Box 14840, Salem, OR 97309-5008

DAHA36, DL USPFO for Pennsylvania, Department of Military Affairs, ATTN: Contracting Officer, Annville, PA 17003-5003

DAHA37, 9W USPFO for Rhode Island, 330 Camp Street, Providence, RI 02906-1954

DAHA38, DU USPFO for South Carolina, 9 National Guard Road, Columbia, SC 29201-4766

DAHA39, VQ USPFO for South Dakota, 2823 West Main Street, Rapid City, SD 57702-8186

DAHA40, YX USPFO for Tennessee, Powell Avenue, PO Box 40748, Nashville, TN 37204-0748

DAHA41, 9C USPFO for Texas, ATTN: Contracting Officer, PO Box 5218, Austin, TX 78563-5218

DAHA42 USPFO for Utah, PO Box 2000, Draper, UT 84020-2000

DAHA43 USPFO for Vermont, Camp Johnson, Building 3, PO Box 2000, Colchester, VT 05446-3004

DAHA44, ZR USPFO for Virginia, Building 316, Fort Pickett, Blackstone, VA 23824-6316

DAHA45, ZX USPFO for Washington, Building 32, Camp Murray, Tacoma, WA 98430-5000

DAHA46 USPFO for West Virginia, 50 Armory Road, Buckhannon, WV 26201-2396

DAHA47, 9G USPFO for Wisconsin, 8 Madison Boulevard, Camp Douglas, WI 54618-5002

DAHA48 USPFO for Wyoming, 5500 Bishop Boulevard, Cheyenne, WY 82009-3320

DAHA49 USPFO for the District of Columbia, Naval District of Washington, 189 Poremba Court SW, Washington, DC 20373

DAHA50 USPFO for Hawaii, 4208 Diamond Head Road, Honolulu, HI 96816-4495

DAHA51, 2Z USPFO for Alaska, P&C Division, PO Box B, Camp Denali, Fort Richardson, AK 99505-2600

DAHA70 USPFO for Puerto Rico, PO Box 34069, Fort Buchanan, PR 00904-4068

DAHA72 USPFO for Virgin Islands, RR #2, Box 9200, Kinghill, VI 00850-9200

DAHA74 USPFO for Guam, 622 East Harmon Industrial Park Road, Tamuning, GU 96911-4422

DAHA90, 2Y National Guard Bureau, Contracting Support, 1411 Jefferson Davis Highway, Arlington, VA 22202-3231

DAJA01, 9Q RCO Vicenza, ATTN: AEUCC-I, Unit 31401, Box 33, APO AE 09630-4033

DAJA02, G5 RCO Seckenheim, ATTN: AEUCC-S, Unit 29331, APO AE 09266-0509

DAJA16, 8X RCO Grafenwoehr, ATTN: AEUCC-G, Unit 28130, APO AE 09114-8130

DAJA22, G6 Wiesbaden Regional Contracting Center, G6 ATTN: AEUCC-C, CMR 410, Box 741, APO AE 09096-0741

DAJA61, 9Z RCO Benelux, ATTN: AEUCC-B, PSC 79, Box 003, APO AE 09724-0003

DAJA77 HQ, USACCE (Contracting Cell, Deployed), ATTN: AEUCC-O, Unit 29331, APO AE 09266-0509

DAJA89, F0 RCO Wuerzburg, ATTN: AEUCC-W, Unit 26622, APO AE 09244-6622

DAJA90, 0T RCO Bad Kreuznach, ATTN: AEUCC-BK, Unit 24335, APO AE 09252-4355

DAJB03, F4 HQ, EUSA, Asst Cofs Acquisition Mgt, ATTN: EAAQ (PARC), Unit 15236, APO AP 96205-0009

DAJN01, 1B U.S. Southern Command, Base Operations Support Activity Miami, 7955 NW 12th Street, Suite 450, Miami, FL 33126-1823

DAJN02, 8V Fort Buchanan Contracting Office, ATTN: SOFB-DOC, Building 556, Fort Buchanan, PR 00934-5049

DAJN21, 1V Theater Support Brigade, Panama, Directorate of Contracting, ATTN: SOCO-CO, Unit 7155, APO AA 34004-5000

DAKF04, ZE Directorate of Contracting, Fort Irwin, ATTN: AFZJ-DC, PO Box 10039, Fort Irwin, CA 92310-0039

DAKF06, 1C Directorate of Contracting, Fort Carson, ATTN: AFZC-DOC, 1850 Mekong Street, Building 6222, Fort Carson, CO 80913-4323

DAKF10, 1D Directorate of Contracting, Fort Stewart, ATTN: AFZP-DC, 1042 William H. Wilson Avenue, Suite 219, Fort Stewart, GA 31314-3322

DAKF11, 1E Army Atlanta Contracting Center, HQ, U.S. Army Forces Command, ATTN: AFLG-PRC, 1301 Anderson Way SW, Fort McPherson, GA 30330-1096

DAKF19, 1G Directorate of Contracting, Fort Riley, ATTN: AFZN-DOC, PO Box 2248, Fort Riley, KS 66442-0248

DAKF23, 1H Directorate of Contracting, Fort Campbell, ATTN: AFZB-DOC, Building 2174, 13½ & Indiana Streets, Fort Campbell, KY 42223-1100

DAKF24, G1 Directorate of Contracting, Fort Polk, ATTN: AFZX-DOC, PO Drawer 3918, Fort Polk, LA 71459-5000

DAKF29, 2G Directorate of Contracting, Fort Dix, ATTN: AFRC-FA-DC, Building 5418, 3rd Floor, South Scott Plaza, Fort Dix, NJ 08640-6150

DAKF36, 1M Directorate of Contracting, Fort Drum, ATTN: AFZS-DOC, 45 West Street, Fort Drum, NY 13602-5220

DAKF40, 1N Installation Business Office, Fort Bragg Contracting, ATTN: AFZA-IBO-C, PO Drawer 70120, Fort Bragg, NC 28307-0120

DAKF48, 1Q Headquarters, III Corps and Fort Hood, III Corps and Fort Hood Contracting Command, ATTN: AFZF-CC, 761st Tank Batallion Avenue, Room W103, Fort Hood, TX 76544-5025

DAKF57, 1T Directorate of Contracting, Fort Lewis, ATTN: AFZH-DOC MS 19, Building 2015, Box 339500, Fort Lewis, WA 98433-9500

DAKF61, 1U Directorate of Contracting, Fort McCoy, ATTN: AFRC-FM-DC, Building 2103, 8th Avenue, Fort McCoy, WI 54656-5000

DAMD17, B3 U.S. Army Medical Research Acquisition Activity, ATTN: MCMR-AAA, 820 Chandler Street, Frederick, MD 21702-5014

DAMT01, 0E HQ, MTMC, ATTN: MTAQ-A, 5611 Columbia Pike, Falls Church, VA 22041-5050

DAMT02, G3 Deployment Support Command (East), ATTN: MTDCE-LO-C, Building 42/7, Military Ocean Terminal, Bayonne, NJ 07002-5302

DAMT03, G4 Deployment Support Command (West), ATTN: MTDCW-PAL-CO, Building 1, Alaska Street, Room 2336, Oakland, CA 94626-5000

DAPCO1, 1K U.S. Army, Pacific, Office of the ACSAM, ATTN: APAM, Building T-115, B Street, Fort Shafter, HI 96858-5100

DAPC49, 8U U.S. Army Garrison, Alaska, Directorate of Contracting, ATTN: APVR-RDOC, PO Box 5-525, Fort Richardson, AK 99505-0525

DAPC50, CJ U.S. Army Garrison, Hawaii, Directorate of Contracting, ATTN: APVG-GK, Building 520, Pierce Street, Fort Shafter, HI 96858-5025

DASA01, G0 U.S. Army Central Command—Saudi Arabia, Directorate of Contracting, ATTN: ARCENT-SA, Eskan Village Riyadh, Saudi Arabia, APO AE 09852

DASA02 U.S. Army Central Command—Kuwait, ATTN: ARCENT-KU-DOC, Camp Doha, Kuwait, APO AE 09889-9900

DASA03 ARCENT Contracting Office, ATTN: AFRD-PARC, Building 363, Fort McPherson, GA 30330-7000

DASA04 U.S. Army Central Command—Qatar, ATTN: ARCENT-QA-DOC, Doha, Qatar, APO AE 09898

DASC01, YJ HQ USAINSCOM, Directorate of Contracting, ATTN: IAPC-DOC, 8825 Beulah Street, Fort Belvoir, VA 22060-5246

DASC02, YV National Ground Intelligence Center, ATTN: IANG-LOG, 220 Seventh Street NE, Charlottesville, VA 22902-5396

DASG60, CB U.S. Army Space and Strategic Defense Command, Deputy Commander, ATTN: SMDC-CM-AP, PO Box 1500, Huntsville, AL 35807-3801

DASG62, CH U.S. Army Space Command, ATTN: SMDC-AR-CM, 1670 North Newport Road, Suite 211, Colorado Springs, CO 80916-2849

DASW01, F7 Defense Supply Service—Washington, ATTN: Policy and Compliance, 5200 Army Pentagon, Room 1D245, Washington, DC 20310-5200

DASW02, 1W Joint Visual Information Activity, ATTN: JDHQS-AVIC-W, 601 North Fairfax Street, Room 334, Alexandria, VA 22314-2007

DATM01, 0R U.S. Army ATEC Contracting Activity, ATTN: CSTE-CA, PO Box Y, Fort Hood, TX 76544-0770

Part 3—Navy Activity Address Numbers

*An asterisk indicates a two-digit code of a major command that is shared with subordinate activities. Such subordinate activities will indicate the Unit Identification Code of the major command in parentheses, e.g., (MAJ00011).

N00011, LB*, LBZ Chief of Naval Operations, 2000 Navy Pentagon, Washington, DC 20350-2000

N00012, HX*, V8*, V8Y Assistant for Administration, Under Secretary of the Navy, 1000 Navy Pentagon, Washington, DC 20350-1000

N00013, MR Judge Advocate General, Hoffman Building 2, Room 8N45N, 200 Stovall Street, Alexandria, VA 22332-2400

N00014, EE*, EE0-9 Office of Naval Research, 800 North Quincy Street, Arlington, VA 22217-5660

N00015, L0*, L0Z Director, Office of Naval Intelligence, 4251 Suitland Road, Washington, DC 20395-5720

N00018, MC*, MD*, J5*, QA*, MCZ Chief, Bureau of Medicine and Surgery, 2300 E Street NW, Washington, DC 20372-5300

N00019, EF*, GU*, EF0-9 Commander, Naval Air Systems Command (Code T), 47123 Buse Road, Unit IPT, Patuxent River, MD 20670-1547

N00022, ML*, MQ*, NV*, MLZ Contracting Officer, Chief of Naval Personnel, 2 Navy Annex, Washington, DC 20370-2000

N00023, 4J*, L5*, 4J0-9 Commander, Naval Supply Systems Command, PO Box 2050, 5450 Carlisle Pike, Mechanicsburg, PA 17055-0791

N00024, EH*, U0*, EH0-9 Commander, Naval Sea Systems Command, 2531 Jefferson Davis Highway, Arlington, VA 22242-5160

N00025, EJ*, FZ*, EJ0-9 Commander, Naval Facilities Engineering Command, Washington Navy Yard, 1322 Patterson Avenue, Suite 1000, Washington, DC 20374-5362

N00030, EK*, EK0-9 Strategic Systems Programs, 1931 Jefferson Davis Highway, Arlington, VA 22241-5362

N00033, EL*, EL0-9 Commander, Military Sealift Command, Washington Navy Yard, 914 Charles Morris Court SE, Washington, DC 20398-5540

N00038, (MAJ00011), LB-5 Commander-in-Chief, U.S. Pacific Command, Box 64017, Camp H. M. Smith, HI 96861-4017

N00039, NS*, NS0-9 Commander, Space and Naval Warfare Systems Command, 4301 Pacific Highway, San Diego, CA 92110-3127

N00061, NL*, NLZ Commander-in-Chief, U.S. Naval Forces, Europe, (London, UK), FPO AE 09499-0153

N00062, 8A*, L9*, R0*, 8A0-9 Chief of Naval Education and Training, Code 013, NAS, Pensacola, FL 32508-5100

N00063, NT*, NTZ Naval Computer and Telecommunications Command, 4401 Massachusetts Avenue NW, Washington, DC 20394-5460

N00069, 8Q*, 8QZ Naval Security Group HQ, 9800 Savage Road, Suite 6585, Fort George Meade, MD 20775-6585

N00102, EN Commander, Portsmouth Naval Shipyard, Building 153, 6th Floor, Portsmouth, NH 03804-5000

N00104, EP, EQ Commander, Naval Inventory Control Point, 5450 Carlisle Pike, Box 2020, Mechanicsburg, PA 17055-0788

N00105, JT Commander, Naval Ambulatory Care Center, 1 Ayres Circle, Building H-1, Portsmouth, NH 03804-5000

N00123, ES Commanding Officer, Fleet and Industrial Supply Center, 937 North Harbor Drive, San Diego, CA 92132-0060

N00124, M5 Commanding Officer, Naval War College, 686 Cushing Road, Newport, RI 02841-1207

N00128, EU Supply Department, Naval Administrative Command, Naval Training Station, Great Lakes, IL 60088-5300

N00129, EV Commanding Officer, Submarine Base, New London, PO Box 156, Code 1150, Groton, CT 06349-5156

N00140, EX, LA Officer-in-Charge, Fleet and Industrial Supply Center, Norfolk, Detachment Philadelphia, 700 Robbins Avenue, Building 2B, Philadelphia, PA 19111-5083

N00153, N0 Governor, Naval Home, 01800 East Beach Boulevard, Gulfport, MS 39501-3111

N00158, 3V Commanding Officer, Naval Air Station, Joint Reserve Base, PO Box 21, Willow Grove, PA 19090-5021

N00161, FA Superintendent, U.S. Naval Academy, 121 Blake Road, Annapolis, MD 21402-5000

N00162, (MAJ00018), MDG-H Commanding Officer, Naval Medical Clinic, 250 Wood Road, Annapolis, MD 21402-5050

N00164, FC Commander, Crane Division, Naval Surface Warfare Center, 300 Highway 361, Building 64, Crane, IN 47522-5001

N00166, (MAJ00011), LC0-1 Commanding Officer, Naval Air Facility, 1 San Diego Loop, Building 3198, Andrews Air Force Base, Washington, DC 20762-5518

N00167, FD Commander, Carderock Division, Naval Surface Warfare Center, 9500 MacArthur Boulevard, West Bethesda, MD 20817-5700

N00168, FE Commanding Officer, National Naval Medical Center, 8901 Wisconsin Avenue, Building 54, Bethesda, MD 20889-5600

N0017A Atlantic Fleet Weapons Training Facility, Roosevelt Roads, PSC 1008, Box 3023, Naval Station, FPO AA 34051-9000

N00171, N5 Commandant, Naval District Washington, Washington Navy Yard, 1014 N Street SE, Suite 200, Washington, DC 20374-5001

N00173, FF Naval Research Laboratory, 4555 Overlook Avenue SW, Washington, DC 20375-5320

N00174, FG Commander, Indian Head Division, Naval Surface Warfare Center, 101 Strauss Avenue, Building 1558, Indian Head, MD 20640-5035

N00178 Commander, Dahlgren Division, Naval Surface Warfare Center, 17320 Dahlgren Road, Dahlgren, VA 22448-5100

N00181, FJ Commander, Norfolk Naval Shipyard Facility Support, Public Works Center, PO Box 5000, Portsmouth, VA 23709-5000

N00183, JX Commanding Officer, Naval Medical Center, 54 Lewis Minors Street, Building 250, Portsmouth, VA 23708-2297

N00187, 3J Commanding Officer, Navy Public Works Center, Naval Station, 9742 Maryland Avenue, Norfolk, VA 23511-3095

N00188, H2 Commanding Officer, Naval Air Station, 9420 3rd Avenue, Norfolk, VA 23511-2197

N00189, FK, H3 Commanding Officer, Fleet and Industrial Supply Center, 1968 Gilbert Street, Suite 600, Norfolk, VA 23511-3392

N00196, 3K Commanding Officer, Naval Air Station, Atlanta, 1000 Halsey Avenue, Marietta, GA 30060-5099

N00203, (MAJ00018), MCL Commanding Officer, Naval Hospital Pensacola, 6000 West Highway 98, Building 2269, Pensacola, FL 32512-0003

N00204, FN Commanding Officer, Naval Air Station Pensacola, 395 Millington Avenue, Pensacola, FL 32508-5014

N00205, FP Commanding Officer, Naval Support Activity New Orleans, 2300 General Meyer Avenue, New Orleans, LA 70142-5000

N00206 Commanding Officer, Naval Air Station Joint Reserve Base, 400 Russel Avenue, Building 31, Belle Chasse, LA 70143-5012

N00210, (MAJ00062) Commanding Officer, Naval Training Center Great Lakes, Building 3200, Code N23, 2601A Paul Jones Street, Great Lakes, IL 60088-5127

N00211, (MAJ00018), MCQ-S Commanding Officer, Naval Hospital, Hospital Supply, Building 1H, Great Lakes, IL 60088-5230

N00213, H4 Commanding Officer, Naval Air Station Key West, PO Box 9030, Building A-314, Key West, FL 33040-9001

N00215, 3W Commanding Officer, Naval Air Station, 8100 West Jefferson Boulevard, Dallas, TX 75211-9501

N00216, FR Commanding Officer, Naval Air Station, 1001 D Street, Corpus Christi, TX 78419-5021

N0022A Commander, Afloat Training Group Atlantic, 8952 First Street, Suite 150, Norfolk, VA 23511-3799

N00231, (MAJ00018), J54 Commanding Officer, Naval Medical Clinic, 2200 Lester Street, Quantico, VA 22134-6050

N00232, (MAJ00018), MCB-F Commanding Officer, Naval Hospital Jacksonville, Building H-2091, Code 0603, Jacksonville, FL 32214-5000

N00244, NW Naval Supply Center, Naval Base, 937 North Harbor Drive, San Diego, CA 92132-0060

N00245, (MAJ00070), LPN Commanding Officer, Naval Station, 3455 Senn Road, San Diego, CA 92136-5084

N00246, H5 Naval Air Station, North Island, San Diego, CA 92135-5112

N00250 FW Commander, Navy Exchange Service Command, 3280 Virginia Beach Boulevard, Virginia Beach, VA 23452-5724

N00251 FX Commander, Puget Sound Naval Shipyard, 1400 Farragut Avenue, Bremerton, WA 98314-5000

N00253 FY Commanding Officer, Keyport Division, Naval Undersea Warfare Center, 614 Dowell Street, Keyport, WA 98345-7610

N00259, (MAJ00018), JE Commanding Officer, Naval Medical Center, 34800 Bob Wilson Drive, Suite 1800, San Diego, CA 92134-5001

N00262, (MAJ00027, MUG Marine Air Corps Facility, 2100 Belleau Avenue, Quantico, VA 22134-5063

N00275, 3M Commanding Officer, Naval Air Reserve Activity Chicago, 615 Barry Road, Naval Training Center, Building 190, Great Lakes, IL 60088-5707

N00281, (MAJ00062) L90-1 Commanding Officer, Fleet Combat Training Center, Atlantic Dam Neck, 1912 Regulus Avenue, Virginia Beach, VA 23461-2098

N00285, (MAJ00018) MDR Commanding Officer, Naval Hospital, 10651 E Street, Corpus Christi, TX 78419-5200

N00311, GA Commander, Pearl Harbor Naval Shipyard, PO Box 400, 401 Avenue E, Suite 124, Pearl Harbor, HI 96860-5350

N0031A, Commander, (MAJ00060), J0K-M JOY-Z Naval Special Warfare Group Two, Naval Amphibious Base, Little Creek, Norfolk, VA 23521-5340

N00318, (MAJ00027, MUK-M Contracting Office (Code LSCP), Marine Corps Base Hawaii, Supply Dept, PO Box 63063, MCBH Kaneohe Bay, HI 96744-3063

N00367, (MAJ00023), L5G Commanding Officer, Navy Fleet Support Office, 5450 Carlisle Pike, PO Box 2010, Building 409, Code 9243, Mechanicsburg, PA 17055-0787

N00383, GB, GC Commanding Officer, Naval Inventory Control Point, 700 Robbins Avenue, Philadelphia, PA 19111-5098

N00391, EP, EQ, GB, GC Commanding Officer, Naval Inventory Control Point, 700 Robbins Avenue, Philadelphia, PA 19111-5098

N00406, GE Commanding Officer, Fleet and Industrial Supply Center, Puget Sound, 467 W Street, Bremerton, WA 98314-5100

N00421, M8 Naval Air Warfare Center, Aircraft Division, 47253 Whalen Road, Building 588, Patuxent River, MD 20670-1463

N00600 GG Officer-in-Charge, Fleet and Industrial Supply Center, Norfolk, Detachment Washington, Washington Navy Yard, Building 200 901 M Street SE, Washington, DC 20374-5014

N00604 NQ Commanding Officer, Fleet and Industrial Supply Center, PO Box 300, Pearl Harbor, HI 96860-5300

N00620, H6 Commanding Officer, Naval Air Station, Whidbey Island, 1170 West Lexington Street, Oak Harbor, WA 98278-5000

N00639, H7 Commanding Officer, Naval Support Activity Memphis, 5720 Integrity Drive, Building S-242, Millington, TN 38054-5045

N00702, (MAJ00069), 8QM-N Commander, Naval Security Group Activity, 10 Fabbri Green, Suite 70, Winter Harbor, ME 04693-0900

N00743, 8N Commanding Officer, Naval Computer and Telecommunications Station Puerto Rico, PSC 1008, Box 3022, FPO AA, PR 34051-8200

N00950, 8R Commanding Officer, Naval Computer and Telecommunications Area Master Station, EASTPAC 500 Center Street, Wahiawa, HI 96786-3050

N001024, (MAJ00023) Commanding Officer, USS Constitution, Building 5, Boston National Historical Park, Charlestown, MA 02129-1797

N00308A, (MAJ00033) Commanding Officer, Military Sealift Command Office Port Canaveral, PO Box 4066, Patrick AFB, FL 32925-7468

N00434A, (N00022), MQL Officer-in-Charge, United States Navy Band, Washington Navy Yard, Building 105, 901 M Street SE, Washington, DC 20374-5054

N00463A, (MAJ00024), EHC Commanding Officer, Navy Experimental Diving Unit, 321 Bullfinch Road, Panama City, FL 32407-7015

N00534A, (MAJ00019), EFG Commanding Officer, Pacific Missile Range Facility (Code 7040), Barking Sands, Kokaha, HI 96752-0128

N00597A, (MAJ00012), HXP-W Director, Office of Civilian Personnel Management, Southeast Region, Building A-67, Naval Base, Norfolk, VA 23511-6098

N00608A, Commanding Officer, National Naval Regional Dental Center, 8901 Wisconsin Avenue, Building 2, Bethesda, MD 20889-5602

N00610A, (MAJ00062), L98 Commanding Officer, Naval Diving and Salvage Training Center, 350 South Crag Road, Panama City, FL 32407-7016

N00618A, (MAJ00062), 8AE Commanding Officer, School of Music, 1420 Gator Boulevard, Norfolk, VA 23521-2617

N00622A Commanding Officer, Naval School of Health Sciences, 8901 Wisconsin Avenue, Building 141, Bethesda, MD 20889-5611

N00708A, (MAJ00024), U0A-B Naval Warfare Engineering Activity, Port Hueneme Division, Naval Surface Warfare Center, PO Box 10, Yorktown, VA 23691-0010

N009158 Commander, Reserve Patrol Wing Atlantic, 513 Park Crescent, Norfolk, VA 23511-4091

N30530, (MAJ00023) Commanding Officer, Naval Air Reserve Center, 2988 North Access Road, Columbus, OH 43217-1199

N30829, (MAJ00061), NL0-2 Officer-in-Charge, Naval Support Activity, Naples Detachment (Gaeta, Italy), PSC 811, ADMIN, FPO AE, NA 09609-1001

N30929, Commanding Officer, Navy Flight Demonstration Squadron (Blue Angels), 390 San Carlos Road, Suite A, Pensacola, FL 32508-5508

N31020, (MAJ00011), LBP-Y Commanding Officer, Naval Reserve Information Systems Office, 4400 Dauphine Street, New Orleans, LA 70146-0001

N31188 Commanding Officer, Naval Security Group Activity Sugar Grove, Building 324, Sugar Grove, WV 26815-5399

N31699, (MAJ00012), V8Z Office of the Under Secretary of the Navy, 1000 Navy Pentagon, Room 4E732, Washington, DC 20350-1000

N31954, (MAJ00062), R0X Submarine Training Facility, 544 White Road, San Diego, CA 92106-3550

N31980, (MAJ00033) Commander, Military Sealift Command, 140 Sylvester Road, San Diego, CA 92106-3521

N32205, (MAJ00033) Commander, Military Sealift Command, Contracts and Business Management West, 140 Sylvester Road, San Diego, CA 92106-3521

N32263 Officer-in-Charge-of-Construction, Mediterranean Contracts Office Naples, PSC 817, Box 100, FPO AE, NA 09622-0100

N32434 Commander, Fleet and Industrial Service Center (Yokosuka Det Okinawa), Purchasing and Contracting Kadena, PSC 480, FPO AP, NA 96370-0006

N32515, (MAJ00011), VSF Patrol Wing One, Detachment Kadena, Supply Department, PSC 480, Box 055, FPO AP, NA 96370-0055

N32778, (MAJ00070), 4LE Commander, Fleet Activities, Chinhae (Korea), PSC 479, FPO AP, NA 96269-1100

N32960, K2 Commanding Officer, Navy Support Activity La Maddalena, PSC 816, FPO AE, NA 09612-0006

N33191 Commanding Officer, Engineering Field Activity Mediterranean, PSC 810, Box 51, APO AE, NA 09622-0051

N35697 Director, Defense Activity for Non-Traditional Education Support, 6490 Saufley Field Road, Pensacola, FL 32509-5243

N35949, (MAJ00018), J5S Commanding Officer, Naval Hospital, Marine Corps Air Ground Combat Center, Box 788250, Twentynine Palms, CA 92278-8250

N39088, (MAJ00022), NVF Commanding Officer, Navy Recruiting Orientation Unit, 206 South Avenue, Suite C, Pensacola, FL 32508-5102

N39163, (MAJ00018), MDO-9 Commanding Officer, Naval Hospital Sigonella, Italy, PSC 812, Box 2670, FPO AE, NA 09627-2670

N39479, (MAJ00023) Commander, Naval Air Reserve Activity, Selfridge ANGB, 41130 Castle Avenue, Building 1422, Selfridge ANGB, MI 48045-5008

N39539 Officer-in-Charge, U.S. Naval Air Pacific Repair Activity, Detachment Okinawa, PSC 556, Box 222, FPO AP, NA 98636-0222

N39830, (MAJ00030), EXE Directorate of Contracting (Code 52), Naval Security Station, Building 18-139, 3801 Nebraska Avenue NW, Washington, DC 20393-5440

N39849, (MAJ00025) Officer-in-Charge, Navy Public Works Detachment Philadelphia, U.S. Naval Base, Building 1, Philadelphia, PA 19112-5087

N42055 Commanding Officer, Beachmaster Unit Two, 1745 10th Street, Norfolk, VA 23521-2942

N42237, 7A Commanding Officer, Naval Submarine Base Public Works Department, 1063 Tennessee Avenue, Kings Bay, GA 31547-2606

N42985, LB Chief, Naval Forces Division, U.S. Military Training Mission, Kingdom of Saudi Arabia, Unit 61300, Box 5, APO AE, NA 09803-1300

N44249 Officer-in-Charge-of-Construction, Naval Facilities Engineering Command Contracts, 1005 Michael Road, Camp Lejeune, NC 28547-2521

N44250 Officer-in-Charge-of-Construction, Naval Facilities Engineering Command Contracts, Keflavik IC, PSC 1003, Box 28, FPO AE, NA 09728-0328

N44251 Officer-in-Charge-of-Construction, Naval Facilities Engineering Command Contracts (Guantanamo), Naval Base PSC 1005, Box 37,FPO AE, NA 09593-0137

N44255 Commanding Officer, Engineering Field Activity, Northwest, 19917 7th Avenue NE, Poulsbo, WA 98370-7570

N44416, (MAJ00023) Defense Printing Service Northeast Area, 700 Robbins Avenue, 4JL Philadelphia, PA 19111-5093

N45045, (MAJ00012) V8A Navy Comptroller Standard Systems Activity Det., Raleigh Oaks Plaza Building, 3606 Austin Peay Highway, Memphis, TN 38128-3757

N45411, (MAJ00070) LPE Commanding Officer, ssault Craft #5 PO Box 555161, Camp Pendleton, CA 92055-5003

N45534, (MAJ00024) EHN AEGIS Combat Flight Facility, Building V-10, Library K, Wallops Island, VA 23337-5000

N45610 Commanding Officer, Navy Consolidated Brig, 1050 Remount Road, Building 3107, Charleston, SC 29406-3515

N45806 Officer-in-Charge-of-Construction, Naval Facilities Engineering Command Contracts, 9324 Virginia Avenue, Norfolk, VA 23511-3689

N45809 Officer-in-Charge-of-Construction, Naval Facilities Engineering Command, Building 820, Naval Air Station Oceana, Virginia Beach, VA 23460-5121

N45810 Officer-in-Charge-of-Construction, Naval Facilities Engineering Command Contracts, Little Creek, 1450 Seventh Street, Norfolk, VA 23521-2443

N45854, (MAJ00011) LBE Commanding Officer, Fleet Surveillance Support Command, Chesapeake, 1298 Olympic Avenue, Chesapeake, VA 23322-5010

N46077 Director, (MAJ00033) Military Sealift Command, TAGOS Project Office East, 2425 Stalwart Road, Suite 200, Norfolk, VA 23521-3326

N46531, (MAJ00012), HX0-E Office of Civilian Personnel Management, National Capital Region, 801 North Randolph Street, Arlington, VA 22203-1977

N46656, NP Telecommunication Management Detachment West, 937 North Harbor Drive, San Diego, CA 92132-5104

N47408, (MAJ00025), EJP-W Commanding Officer, Naval Facilities Engineering Command Contracts Office, Seabee Logistics Center, Building 41, Code 27, 4111 San Pedro Street, Port Hueneme, CA 93043-4410

N47764 (MAJ00023) Officer-in-Charge, Navy Reserve Recruiting Command (Det Two), Building 3400, Room 230, NTC, Great Lakes, IL 60088-5709

N47767 Officer-in-Charge, Naval Reserve Recruiting Command Det 5, 4040 Blackburn Lane, Suite 210, Burtonsville, MD 20866-1170

N47898 (MAJ00074), QUA-B Naval Special Warfare Development, Fleet Combat Training Center, Atlantic, Dam Neck, Building 310, Virginia Beach, VA 23461-5200

N48066 Commanding Officer, Navy Recruiting District New England 495 Summer Street, Boston, MA 02210-2103

N48067, (MAJ00023) Commanding Officer, Navy Recruiting District Chicago, 3400 Patton Road, Suite 300, Fort Sheridan, IL 60037-1288

N48068, (MAJ00023) Commanding Officer, Navy Recruiting District Columbus, Federal Building, Room 609, 200 North High Street, Columbus, OH 44142-2474

N48069, (MAJ00023) Commanding Officer, Navy Recruiting District Michigan, 1155 Brewery Park Boulevard, Suite 320, Detroit, MI 48207-4221

N48142, (MAJ00012), V80-1, Assistant Secretary of the Navy, Research, Development and Acquisition, 1000 Navy Pentagon, Washington, DC 20350-1000

N48389, Commanding Officer, Joint Maritime Facility, St. Mawgawn, UK,PSC 804, Box 3, FPO, AE, NA 09409-1003

N48398, (MAJ00070), 4LD Commander, U.S. Naval Forces Alaska, PO Box 25517, Juneau, AK 99802-5517

N48984, (MAJ00023), L5E Defense Printing Service Detachment Office, 901 South Drive, Scott Air Force Base, IL 62225-5106

N49399 (MAJ00060), NM0-9 Commanding Officer, Naval Submarine Support Facility, Supply Operations, New London, Box 500, Groton, CT 06349-5500

N49872, (MAJ00011), V85 Commander, Naval Media Center, Naval Station Anacostia, Building 168, 2701 South Capital Street SW, Washington, DC 20373-5819

N53210, (MAJ00060), LHJ-K Assault Craft Unit 2, Naval Amphibious Base, Little Creek, 2901 Amphibious Drive, Norfolk, VA 23521-3322

N53825 GY Commander, Naval Surface Force, U.S. Atlantic Fleet, 1430 Mitscher Avenue, Building NH21, Norfolk, VA 23551-2494

N53863, (MAJ00060), LHH Commander, Surface Warfare Development Group, 2200 Amphibious Drive, Norfolk, VA 23521-2850

N55105, (MAJ00060), NMC Commanding Officer, Amphibious Construction Battalion Two, 1815 Seabee Drive, Norfolk, VA 23521-2928

N55131, (MAJ00060), J0A-B Commanding Officer, Cargo Handling and Port Group, 290 4th Street, Williamsburg, VA 23185-8792

N55161 Commander, U.S. Seventh Fleet Representative, Perth, Western Australia, American Consulate Unit 11021, APO AP, NA 96530-5000

N55271, (MAJ00070), LP8 Commander, Naval Surface Group Pacific Northwest, 2000 West Marine View Drive, Everett, WA 98207-2400

N55322, (MAJ00060), LHN Explosive Ordnance Disposal Group Two, 821 Blasters Cove, Fort Story, VA 23459-5024

N55520 Officer-in-Charge, Commander-in-Chief Pacific Command Representative, Civil Action Detachment Guam, PSC 455, Box 181, FPO AP, GU 96540-2970

N55575, (MAJ00011), LPM Strategic Communications, Wing One, Tinker Air Force Base, Oklahoma, OK 73145-8701

N57012, GQ Commander, Naval Air Force, U.S. Atlantic Fleet, 1279 Franklin Street, Norfolk, VA 23511-2494

N57016, (MAJ00060), J0N Commander, Submarine Force, U.S. Atlantic Fleet, 7958 Blandy Road, Norfolk, VA 23511-2494

N57023, GT Commander, Operational Test and Evaluation Force, 7970 Diven Street, Norfolk, VA 23505-1498

N57032, (MAJ00061), NLF-H Commanding Officer, Naval Air Facility, Mildenhall, UK, RAF Mildenhall, Unit 5020, PSC 37, Box 485, FPO AE, NA 09459-0485

N57066 Commander, Naval Beach Group One, 3600 Tarawa Road, San Diego, CA 92155-5592

N57070, (MAJ00060), LH7 Commander, Undersea Surveillance, U.S. Atlantic Fleet, 373 Bullpup Street, Virginia Beach, VA 23461-2198

N57092, (MAJ00070), V5U Commander, Naval Inshore Undersea Warfare Group One, Building 184, PO Box 357140, NOLF Imperial Beach, San Diego, CA 92135-7140

N57095, (MAJ00060), LH0-1 Commander, Atlantic Fleet Headquarters Support Activity, 1918 Blandy Road, Suite 100, Norfolk, VA 23551-2419

N57100, (MAJ00070), LP0-1 Commander, Naval Special Warfare Group One, 3632 Guadacanal Road, San Diego, CA 92155-5583

N60087, 3P Commanding Officer, Naval Air Station, 700 Fitch Avenue, Brunswick, ME 04011-5000

N60138 Officer-in-Charge-of-Construction, Fleet Industrial Supply Center, Cheatham Annex, 108 Sanda Avenue, Williamsburg, VA 23187-8792

N60241, 3X Commanding Officer, Naval Air Station Kingsville, 802 Dealey Avenue, Suite 209, Kingsville, TX 78363-5027

N60495, 3T Commanding Officer, Naval Air Station, 4755 Pasture Road, Fallon, NV 89496-5000

N60508, 4Q Commanding Officer, Naval Air Station Whiting Field, 7201 USS Wasp Street, Milton, FL 32570-6141

N60514, GL Commanding Officer, Naval Station (Guantanamo Bay, Cuba), PSC 1005, PO Box 37, FPO AE, NA 09593-0137

N60701, 4M Naval Weapons Station, 800 Seal Beach Boulevard, Seal Beach, CA 90740-5000

N60951, (MAJ00060), LHU Fleet Accounting and Disbursing Center, Operating Forces, U.S. Atlantic Fleet, Norfolk, VA 23511-6096

N61331, HR Commanding Officer, Coastal Systems Station, Dahlgren Division, Naval Surface Warfare Center, 6703 West Highway 98, Panama City, FL 32407-7001

N61337, H0 Commanding Officer, Naval Hospital Beaufort, 1 Pinckney Boulevard, Beaufort, SC 29904-6148

N61339, HT Commanding Officer, Naval Air Warfare Center Training System Division, 12350 Research Parkway, Orlando, FL 32826-3275

N61414, 4B Officer-in-Charge-of-Construction, Public Works Division Little Creek, 1450 Gator Boulevard, Code 026, Norfolk, VA 23521-2626

N61463 (MAJ00060), LHB-D, LH2-4 Commander, Naval Base Norfolk, 1530 Gilbert Street, Suite 2200, Norfolk, VA 23511-2797

N61564, FS Commanding Officer, U.S. Naval Hospital, PO Box 36, PSC 1005, Guantanamo Bay, Cuba, NA 09593-0136

N61581, (MAJ00070), 4LT Commander, Fleet Activities, Yokosuka Naval Base, PSC 473, Box 1, FPO AP, NA 96349-1100

N61685, (MAJ00065), S0A Naval Oceanography Command Center (Guam), Box 12, FPO AP, NA 96540-2926

N61726, QL Commanding Officer, Naval Ambulatory Care Center, Material Mangement, 1 Wahoo Drive, Building 449, Groton, CT 06349-5600

N61751, (MAJ00018), MCK,M,N,P Commanding Officer, Naval Medical Research Unit No. 3, Cairo (Egypt), PSC 452, Box 5000, FPO AE 09835-7000

N61797 Commanding Officer, Fleet Training Center Norfolk, 9549 Bainbridge Avenue, Norfolk, VA 23511-2594

N62102, (MAJ00011), 9T9 Commanding Officer, Naval and Marine Corps Reserve Center, 801 Reeves Avenue, Terminal Island, CA 90731-5992

N62254, (MAJ00070), 4LX Commander Fleet Activities, Okinawa Naval Air Facility, Kadena, PSC 480, Box SU/CR, FPO AP, NA 96370-1150

N62271, QE Commanding Officer, Naval Support Activity-Monterey Bay, 1 University Circle, Monterey, CA 93943-5000

N62285, (MAJ00065), S00-1 Superintendent, Naval Observatory, 3450 Massachusetts Avenue NW, Washington, DC 20390-5420

N62306, 7C Commanding Officer, Naval Oceanographic Office, 1002 Balch Boulevard, Stennis Space Center, MS 39552-5001

N62367, (MAJ00023), 4JC Officer-in-Charge, Navy Clothing and Textile Research Facility, 21 Strathmore Road, PO Box 59, Natick, MA 01760-0001

N62395, JK Navy Public Works Center, (Mariana Islands, Guam), PSC 455, Box 195, FPO AP, GU 96540-2937

N62404, JJ Commander, Military Sealift Command, Far East, PSC 471, Yokohama, Japan, FPO AP, NA 96347-2600

N62410, (MAJ00022), MQ6 Commanding Officer, Navy Recruiting District, PO Box 8667, Albuquerque, NM 87198-8667

N62412, (MAJ00022), MLR Commanding Officer, Navy Recruiting District, 2400 Presidents Drive, Suite 250, Montgomery, AL 36119-1616

N62414, (MAJ00023) Commanding Officer, Navy Recruiting District, 111 West Huron Street, Buffalo, NY 14202-2384

N62419 Commanding Officer, Navy Recruiting District, 9990 Richmond Avenue, Suite 200, Houston, TX 77042-4546

N62421, (MAJ00022), MQM Commanding Officer, Navy Recruiting District, 8925 North Meridian Street, Room 250, Indianapolis, IN 46260-2036

N62422 Commanding Officer, Navy Recruiting District, 4070 Boulevard Center Drive, Jacksonville, FL 32207-2897

N62427, (MAJ00022), MLP Commanding Officer, Navy Recruiting District, 6910 Pacific Street, Suite 400, Omaha, NE 68106-1085

N62429, (MAJ00022), MLE Commanding Officer, Navy Recruiting District, 1220 SW Third Avenue, Suite 576, Portland, OR 97204-2887

N62430 Commanding Officer, Navy Recruiting District, 801 Oberlin Road, Suite 120, Raleigh, NC 27605-1130

N62431 Commanding Officer, Navy Recruiting District Command, 3410 West Broad Street, Richmond, VA 23230-5004

N62432, (MAJ00022), MQG Navy Recruiting District, 1222 Spruce Street, St. Louis, MO 63103-2814

N62435, (MAJ00022), MQE Commanding Officer, Navy Recruiting District New England, 495 Summer Street, Boston, MA 02210-2103

N62437, (MAJ00022), MQ4 Commanding Officer, Navy Recruiting District, 1565 West Mockingbird Lane, Suite 500, Dallas, TX 75235-5006

N62438, (MAJ00022), MLQ Commanding Officer, Navy Recruiting District, 225 East 16th Avenue, Suite 300, Denver, CO 80203-1607

N62440, (MAJ00022), MLT Commanding Officer, Navy Recruiting District, 10306 NW Prairie View Road, Kansas City, MO 64153-1350

N62441, (MAJ00022), MLG Commanding Officer, Navy Recruiting District, 5051 Rodeo Road, Los Angeles, CA 90016-4795

N62442 Commanding Officer, Navy Recruiting District Atlanta, 2400 Herodian Way, Suite 400, Smyrna, GA 30080-8500

N62443, (MAJ00022),MLV Commanding Officer, Navy Recruiting District, 6026 28th Avenue South, Minneapolis, MN 55450-2700

N62444, (MAJ00022), NVA Commanding Officer, Navy Recruiting District, 4400 Dauphine Street, Building 602-2C, New Orleans, LA 70146-6400

N62446, (MAJ00022) Commanding Officer, Navy Recruiting District 128 North Broad Street, Philadelphia, PA 19102-1483

N62447, (MAJ00022) Commanding Officer, Navy Recruiting District, 1000 Liberty Avenue, Room 701, Pittsburgh, PA 15222-4094

N62448, (MAJ00022), MLN Commanding Officer, Navy Recruiting District San Francisco, 1500 Broadway, Oakland, CA 94612-2096

N62449, (MAJ00022), MLC Commanding Officer, Navy Recruiting District, 2901 3rd Avenue, Suite 250, Seattle, WA 98121-1042

N62467, JM Commanding Officer, Naval Facilities Engineering Command, Southern Division, PO Box 190010, 2155 Eagle Drive, North Charleston, SC 29418-9010

N62470, JN Commanding Officer, Naval Facilities Engineering Command, Atlantic Division, 1510 Gilbert Street, Norfolk, VA 23511-2699

N62471, N7 Officer-in-Charge-of-Construction, Pacific Division Naval Facilities Engineering Command Contracts, Mid-Pacific, PO Box 104, Pearl Harbor, HI 96860-5421

N62472, JP Commanding Officer, Naval Facilities Engineering Command, Northern Division, 10 Industrial Highway, Mail Stop #82, Lester, PA 19113-2090

N62474, JR Commanding Officer, Engineering Field Activity, West Naval Facilities Engineering Command, 900 Commodore Drive, San Bruno, CA 94066-5006

N62477, JU Commanding Officer, Naval Facilities Engineering Command, Chesapeake Division, 901 M Street SE, Building 212, Washington Navy Yard, Washington, DC 20374-2121

N62507, (MAJ00070) 4LJ Commanding Officer, Naval Air Facility (Atsugi, Japan), PSC 477, Box 4, FPO AP, NA 96306-1204,

N62537 Commander, Military Sealift Command, Europe, PSC 817, Box 23, FPO AE, NA 09622-0023,

N62576, (MAJ00023) 4JG Defense Printing Service Branch Office, 700 Robbins Avenue, Philadelphia, PA 19111-5094

N62583, J3 Commanding Officer, Naval Construction Battalion Center, 1000 23rd Avenue, Port Hueneme, CA 93043-4301

N62585, K3 Commander, Naval Activities, United Kingdom, PSC 802, Box 26, FPO AE, NA 09499-1000

N62588, NR Commanding Officer, Naval Support Activity (Naples, Italy), PSC 817, Box 5, FPO AE, NA 09619-1005

N62604, J4 Commanding Officer, Naval Construction Battalion Center, 5200 CBC 2nd Street, Gulfport, MS 39501-5001

N62638, (MAJ00011) LCN Commander, Naval Inshore Undersea Warfare Group Two, 111 Sanda Avenue, Cheatham Annex, Williamsburg, VA 23185-5830

N62643 Commanding Officer, Naval Ice Center, 4521 Suitland Road, FB4, Washington, DC 20395-5180

N62645, EG Commanding Officer, Naval Medical Logistics Command Fort Detrick, 521 Fraim Street, Frederick, MD 21702-5015

N62649, JY Commanding Officer, Fleet and Industrial Supply Center, Yokosuka, PSC 473, Box 11, FPO AP, NA 96349-1500

N62661, (MAJ00062) L97 Commanding Officer, Naval Education and Training Center, 47 Chandler Street, Code 56, Newport, RI 02841-5000

N62670, 8B Commanding Officer, Supervisor of Shipbuilding, Conversion and Repair, USN, PO Box 280158, Mayport Naval Station, Jacksonville, FL 32228-0158

N62673, 8P Director, SUPSHIP Jacksonville Detachment Charleston, 1661 Redbank Road, Suite 104, Goose Creek, SC 29444-6511

N62678, 8C Commanding Officer, Supervisor of Shipbuilding, Conversion and Repair, USN, Portsmouth, PO Box 215, Building 15, 2nd Floor, Portsmouth, VA 23705-0215

N62686, T0 Defense Automated Printing Service, 645 Rickover Street SE, Suite 100, Washington, DC 20374-5030

N62688, GW Commanding Officer, Naval Station Norfolk, 9583 Maryland Avenue, Norfolk, VA 23511-2895

N62695 Auditor General/Director, Naval Audit Services Headquarters, Area Facilitator, Eastern Office, 5611 Columbia Pike, Nassif Building, Falls Church, VA 22041-5080

N62700, (MAJ00023) 4JJ Defense Automated Printing Service, Naval Training Center, Building 2A, Great Lakes, IL 60088-5700

N62706, JS Defense Automated Printing Service Detachment Office, San Diego Naval Station, Box 368148, 4300 Hoover Station, San Diego, CA 92136-5595

N62707, (MAJ00023), 4JS-U Defense Printing Service Detachment Office, Western Area, Pearl Harbor, Box 126, Pearl Harbor, HI 96860-5120

N62709, NR Officer-in-Charge, Naval Support Unit, Allied Forces Southern Europe, Navy Element, Naples, Italy, PSC 813, Box 167, FPO AE, NA 09620-0120

N62735, (MAJ00070) 4LP, 4L3-9, 4LP-S Commanding Officer, Fleet Activities, (Sasebo, Japan), PSC 476, Box 1, FPO AP, NA 96322-1100

N62741, MB Commanding Officer, Navy Supply Corps School, 1425 Prince Avenue, Athens, GA 30606-2205

N62742, KB Commander, Naval Facilities Engineering Command, Pacific Division, Building 258, Makalapa Drive, Pearl Harbor, HI 96860-7300

N62755, J7 Officer-in-Charge-of-Contracts, Naval Facilities Engineering Command, Pearl Harbor, 4262 Radford Drive, Pearl Harbor, HI 96818-3296

N62766, L1 Officer-in-Charge-of-Construction, Naval Facilities Engineering Command Contracts, Marianas (Guam), PSC 455, Box 175, FPO AP, NA 96540-2200

N62786, ER Commanding Officer, Supervisor of Shipbuilding, Conversion and Repair, USN, 574 Washington Street, Bath, ME 04530-1916

N62789, L8 Commanding Officer, Supervisor of Shipbuilding, Conversion and Repair, USN, 73 Eastern Point Road, Groton, CT 06340-4909

N62791, NU Commanding Officer, Supervisor of Shipbuilding, Conversion and Repair, USN, 3600 Surface Navy Boulevard, PO Box 368119, San Diego, CA 92136-5066

N62793, 4T Commanding Officer, Supervisor of Shipbuilding, Conversion and Repair, USN, 4101 Washington Avenue, Building 2, Newport News, VA 23607-2787

N62795, 7F Commanding Officer, Supervisor of Shipbuilding, Conversion and Repair, USN, PO Box 7003, Pascagoula, MS 39568-7003

N62799, 7M Commanding Officer, Supervisor of Shipbuilding, Conversion and Repair, USN, Puget Sound, 2802 Wetmore Avenue, Suite 500, Everett, WA 98201-3518

N62814 Commanding Officer, U.S. Naval Medical Research Unit Two, Jakarta, Indonesia, Box 3, Unit 8132, APO AP, NA 96520-8132

N62836, L4 Officer-in-Charge-of-Construction, Naval Facilities Engineering Command Contracts, Far East Yokosuka, Japan, PSC 473, Box 61, FPO AP, NA 96349-2903

N62841 (MAJ00030), EKA Commanding Officer, Naval Ordnance Test Unit, PO Box 1623, Cape Canaveral, FL 32920-1623

N62863, K4 Commanding Officer, U.S. Naval Station (Rota, Spain), PSC 819, Box 8, FPO AE, NA 09645-1600

N62873 (MAJ00018) Commanding Officer, Navy Disease Vector Ecology and Control Center, Building 937, PO Box 43, Naval Air Station, Jacksonville, FL 32212-0043

N62907, KG Naval Plant Representative Office, Applied Physics Laboratory, Johns Hopkins Road, Laurel, MD 20810-2081

N62909, (MAJ00014) Commanding Officer, Office of Naval Research, International Field Office, London, UK, PSC 802, Box 39, FPO AE, NA 09499-0700

N62911, (MAJ00022), MQC Commander, Navy Recruiting Area One, 1 Amsterdam Road, Scotia, NY 12302-9462

N62913, (MAJ00022), MLL Commander, Naval Recruiting Area Three, 451 College Street, PO Box 4887, Macon, GA 31208-4887

N62913, (MAJ00022), MLL Commander, Naval Recruiting Area Three, 451 College Street, PO Box 4887, Macon, GA 31208-4887

N62915, (MAJ00022), MQJ Commander, Navy Recruiting Area Five, 320B Dewey Avenue, Great Lakes, IL 60088-5135

N62918, (MAJ00022), MLA Commander, Navy Recruiting Area Eight, 1301 Clay Street, Suite 610N, Oakland CA 94621-1929

N62936 Commander Officer, Naval Security Group Activity, 9800 Savage Road, Fort Meade, MD 20755-6000

N62980, (MAJ00022), MQR-Z Chief of Naval Personnel, Bureau of Naval Personnel, Navy Annex, Columbia Pike & Southgate Road, Room 1410, Washington, DC 20370-5000

N62995, 4H Commanding Officer, Naval Air Station, Sigonella (Italy), PSC 812, FPO AE, NA 09627-1000

N63005, (MAJ00011), LBL-N Commanding Officer, Administrative Support Unit, Bahrain, PSC 451, FPO AE, NA 09834-2800

N63032, KS Commanding Officer, U.S. Naval Station, Keflavik (Iceland), PSC 1003, Box 15, FPO AE, NA 09728-0315

N63038, 8M Commanding Officer, U.S. Naval Computer and Telecommunications Station, HC69, PO Box 1198, Cutler, ME 04626-9603

N63042, NZ Commanding Officer, Naval Air Station, 700 Avenger Avenue, Lemoore, CA 93246-5001

N63043, 3S Commanding Officer, Naval Air Station, 1155 Rosebaum Avenue, Suite 13, Meridian, MS 39309-5003

N63055, (MAJ00011), LBJ Naval Investigative Service, Mid-Atlantic Region Norfolk, 293 Independence Boulevard, Suite 525, Pembroke 5, Virginia Beach, VA 23462-5400

N63061, (MAJ00065), 50E Commanding Officer, Naval Atlantic Meteorology and Oceanography Center, 9141 Third Avenue, Norfolk, VA 23511-2394

N63082 Commanding Officer, Naval Technical Training Center, Corry Station, 640 Roberts Avenue, Room 112, Pensacola, FL 32511-5138

N63099 Commanding Officer, Naval Air Reserve Jacksonville, PO Box 4, Building 966, Code N4, Jacksonville, FL 32212-0004

N63110 Commanding Officer, Chief of Naval Air Training, 250 Lexington Boulevard, Suite 102, Corpus Christi, TX 78419-5041

N63117 Office-in-Charge, Navy Environmental & Preventive Medicine Unit Two, 1887 Powhattan Street, Norfolk, VA 23511-3394

N63124, (MAJ00024), U00-9 Commanding Officer, Supervisor of Shipbuilding, Conversion and Repair, USN, Naval Support Activity, Building 16, 2300 General Meyer Avenue, New Orleans, LA 70142-5700

N63134, 7R Commanding Officer, Fleet Numerical Meteorology and Oceanography Center, 7 Grace Hopper Avenue, Monterey, CA 93943-5501

N63165, 7U Commanding Officer, Naval Computer and Telecommunications Station, 901 M Street SE, Building 143-6, Washington Navy Yard, Washington, DC 20374-5069

N63190, (MAJ00062) Commanding Officer, Surface Warfare Officers School Command, 446 Cushing Road, Newport, RI 02841-1209

N63200, (MAJ00011), LBB Commanding Officer, Naval Satellite Operations Center, 661 13th Street, Point Mugu, CA 93042-5003

N63209, (MAJ00062), L9A Commanding Officer, Naval Reserve Officers Training Corps Unit, University of New Mexico, 720 Yale Street NE, Albuquerque, NM 87131-1556

N63210, (MAJ00062), L9B Commanding Officer, Naval Reserve Officers Training Corps Unit, Iowa State University, Armory Building, Room 3, Ames, IA 50011-3035

N63211, (MAJ00062), L9C Commanding Officer, Naval Reserve Officers Training Corps Unit, University of Michigan, 104 North Hall, Ann Arbor, MI 48109-1085

N63212, (MAJ00062), L9G Commanding Officer, Naval Reserve Officers Training Corps Unit, University of Texas at Austin, Russell A. Steindham Hall, Room 104, Austin, TX 78712-1184

N63213, (MAJ00062), L9J Commanding Officer, Naval Reserve Officers Training Corps Unit, University of California, 152 Hearst Gymnasium, Berkeley, CA 94720-3640

N63214, (MAJ00062), L9M Commanding Officer, Naval Reserve Officers Training Corps Unit, University of Colorado, Box 374, Boulder, CO 80309-0374

N63216, (MAJ00062), L9W Commanding Officer, Naval Reserve Officers Training Corps Unit, University of Missouri, 105 Crowder Hall, Columbia, MO 65211-0001

N63217, (MAJ00062), L9Z Commanding Officer, Naval Reserve Officers Training Corps Unit, Oregon State University, Naval Armory, Washington Way, Corvallis, OR 97331-5401

N63218, (MAJ00062), R0B Commanding Officer, Naval Reserve Officers Training Corps Unit, Chicago, Northwestern University, 617 Haven Street, Evanston, IL 60208-4140

N63219, (MAJ00062), R0E, L99 Commanding Officer, Naval Reserve Officers Training Corps Unit, Houston Consortium, Rice University, PO Box 1892, Houston, TX 77251-1892

N63220, (MAJ00062), R0L Commanding Officer, Naval Reserve Officers Training Corps Unit, UCLA, Mens Gym, Room 123, 405 Milgard Avenue, Los Angeles, CA 90024-1399

N63221, (MAJ00062), 8AB Commanding Officer, Naval Reserve Officers Training Corps Unit, Los Angeles Consortium, University Park, USC MC0654, Los Angeles, CA 90024-1399

N63222, (MAJ00062), R0H Commanding Officer, Naval Reserve Officers Training Corps Unit, University of Kansas, Military Science Building, Room 115, Lawrence, KS 66045-2528

N63223, (MAJ00062), R0K Commanding Officer, Naval Reserve Officers Training Corps Unit, University of Nebraska, 103 M & N Building, Lincoln, NE 68508-0139

N63224, (MAJ00062), 8AD Commanding Officer, Naval Reserve Officers Training Corps Unit, University of Wisconsin, 1610 University Avenue, Madison, WI 53705-4086

N63225, (MAJ00062), 8AH Commanding Officer, Naval Reserve Officers Training Corps Unit, Marquette University, PO Box 1881, Gymnasium, Milwaukee, WI 53705-4086

N63226, (MAJ00062), 8AJ Commanding Officer, Naval Reserve Officers Training Corps Unit, University of Minnesota, 203 Armory, 15 Church Street SE, Minneapolis, MN 55455-0108

N63227, (MAJ00062), 8AK Commanding Officer, Naval Reserve Officers Training Corps Unit, University of Idaho, 375 Line Street, Moscow, ID 83844-1122

N63228, (MAJ00062), 8AM Commanding Officer, Naval Reserve Officers Training Corps Unit, Tulane University, 6823 Saint Charles Avenue, New Orleans, LA 70118-5698

N63229, (MAJ00062), 8AN Commanding Officer, Naval Reserve Officers Training Corps Unit, University of Oklahoma, 290 West Brook Street, Norman, Oklahoma 73019-0220

N63230, (MAJ00062), 8AR Commanding Officer, Naval Reserve Officers Training Corps Unit, University of Notre Dame, 213 Pasquerilla Center, Notre Dame, IN 46556-5601

N63231, (MAJ00062), 8AW Commanding Officer, Naval Reserve Officers Training Corps Unit, University of Utah, 110 South, 1452 East Front, Salt Lake City, UT 84112-0430

N63232, (MAJ00062), 8AY Commanding Officer, Naval Reserve Officers Training Corps Unit, University of Washington, Box 353840, Seattle, WA 98195-3840

N63234, (MAJ00062), L9Q Commanding Officer, Naval Reserve Officers Training Corps Unit, University of Illinois, 505 East Armory Street, Room 236-B, Champaign, IL 61820-6288

N63235, (MAJ00062), R05 Commanding Officer, Naval Reserve Officers Training Corps Unit, Purdue University, 1503 Armory Building, West Lafayette, IN 47907-1513

N63285, (MAJ00011), LB0 Naval Security and Investigative Command, 716 Sicard Street, Washington, DC 20388-5800

N63291, (MAJ00062), R0F Commanding Officer, Naval Reserve Officers Training Corps Unit, Cornell University, Barton Hall, Department of Science, Garden Avenue, Ithaca, NY 14853-1701

N63294, (MAJ00062), 8AV Commanding Officer, Naval Reserve Officers Training Corps Unit, University of Rochester, Morey Hall 108, RC Box 270436, Rochester, NY 14627-0436

N63295, (MAJ00062), R0M Commanding Officer, Naval Reserve Officers Training Corps Unit, Rensselaer Polytechnic Institute, 110 8th Street, Troy, NY 12180-3590

N63296, (MAJ00062), L9F Commanding Officer, Naval Reserve Officers Training Corps Unit, Auburn University, William F. Nichols Center, Auburn, AL 36849-5512

N63299, (MAJ00062), R0A-9 Commanding Officer, Naval Reserve Officers Training Corps Unit, North Carolina Piedmont Region, Room 225, North Building, Durham, NC 27708-0456

N63301, (MAJ00062), L9D Commanding Officer, Naval Reserve Officers Training Corps Unit, 225 North Avenue NW., Atlanta, GA 30332-0125

N63303, (MAJ00062), R0U Commanding Officer, Naval Reserve Officers Training Corps Unit, College of the Holy Cross, PO Box E, Worcester, MA 01610-2389

N63306, (MAJ00062), 8AS Commanding Officer, Naval Reserve Officers Training Corps Unit, Miami University, 67 Millett Hall, Oxford, OH 45056-1698

N63307, (MAJ00062), R0N Commanding Officer, Naval Reserve Officers Training Corps Unit, University of Mississippi, PO Box 69, University, MS 38677-0069

N63309, (MAJ00062), L9Y Commanding Officer, Naval Reserve Officers Training Corps Unit, University of Ohio State, 2121 Tuttle Park Place, Columbus, OH 43210-1169

N63310, (MAJ00062), R0P Commanding Officer, Naval Reserve Officers Training Corps Unit, The Pennsylvania State University, Wagner Building, University Park, PA 16802-3893

N63311, (MAJ00062), 8AT Commanding Officer, Naval Reserve Officers Training Corps Unit, University of Pennsylvania, 3000 South Street, Philadelphia, PA 19104-0339

N63313, (MAJ00062), L9X Commanding Officer, Naval Reserve Officers Training Corps Unit, University of South Carolina, Leconte College, Room 215, Columbia, SC 29208-0064

N63315, (MAJ00062), 8AL Commanding Officer, Naval Reserve Officers Training Corps Unit, Vanderbilt University, University Plaza, Suite 360, 112 21st Avenue South, Nashville, TN 37203-2427

N63317, (MAJ00062), L9T Commanding Officer, Naval Reserve Officers Training Corps Unit, University of Virginia, Maury Hall, Charlottesville, VA 22903-3194

N63381, (MAJ00011), LBA Chief, Joint U.S. Military Advisory Group, Thailand, (Bangkok, Thailand), MAGTRMS-S, APO AP, NA 96546-5000

N63387, JD Commanding Officer, Navy Public Works Center, 2730 McKean Street, Suite 1, San Diego, CA 92136-5294

N63393 Commander, Naval Safety Center, 375 A Street, Norfolk, VA 23511-4399

N63394, L6 Commander Port Hueneme Division, Naval Surface Warfare Center, 4363 Missile Way, Port Hueneme, CA 93043-4307

N63406, (MAJ00070), V5C Commanding Officer, Naval Submarine Base, 140 Sylvester Road, San Diego, CA 92106-3521

N63410, KA Commanding Officer, Navy Manpower and Material Analysis Center, 5820 Navy Road, Building C-1, Millington, TN 38054-5011

N63429, MH Naval Computer and Telecommunications, Station London (UK), PSC 802, Box 44, FPO AE, NA 09499-1200

N63543, (MAJ00011), 9TC Naval Reserve Center, 3070 Ross Lane, Central Point, OR 97502-1399

N63821, (MAJ00039), NSA-B Officer-in-Charge, Naval Underwater Systems Center Detachment, AUTEC, Andros Island, Bahama Islands, PSC 1012, FPO AA, NA 34058-9998

N63891, (MAJ00069), 8QG Commanding Officer, Naval Security Group, Northwest, 1320 Northwest Boulevard, Suite 100, Chesapeake, VA 23322-4094

N63902 Commanding Officer, Naval Security Group Activity, 1247 West C Street, Norfolk, VA 23511-2322

N64181, (MAJ00062), R0W Officer-in-Charge, Department of Naval Science, Texas Maritime Academy, Box 1675, Galveston, TX 77553-1675

N64223, (MAJ00018), J58 Commanding Officer, Naval Medical Research Institute, 8901 Wisconsin Avenue, Building 17, Bethesda, MD 20889-5607

N64267, M9 Commanding Officer, Naval Warfare Assessment Center, Box 5000, Corona, CA 91718-5000

N64356, KF Commanding Officer, Naval Administrative Command, Armed Forces Staff College, 7800 Hampton Boulevard, Norfolk, VA 23511-1702

N64416 Commanding Officer, U.S. Naval Forces, Marianas, PSC 489, FPO AP, GU 96536-0051

N65113, EZ Commanding Officer, Navy Public Works Center, 210 Decatur Avenue, Building 1A, Great Lakes, IL 60088-5600

N65114, (MAJ00025), EJC Commanding Officer, Navy Public Works Center, Naval Air Station, 310 John Tower Road, Building 3560, Pensacola, FL 32508-5303

N65115, (MAJ00025), FZA Commanding Officer, Navy Public Works Center, Yokosuka, Japan, PSC 473, Box 13, FPO AP, NA 96349-1103

N65116, MZ Officer-in-Charge, Navy-Marine Corps Appellate Review Activity, Office of the Judge Advocate General, Washington Navy Yard, 901 M Street SE., Building 111, Washington, DC 20374-5047

N65126, (MAJ00018), J52 Commanding Officer, Naval Medical Information Management Center, 8901 Wisconsin Avenue, Building 27, Bethesda, MD 20889-5605

N65236, V7 Commander Space and Naval Warfare Systems Center, PO Box 190022, North Charleston, SC 29419-9022

N65428, (MAJ00018), MDP Commanding Officer, Naval Hospital (Roosevelt Roads, PR), PSC 1008, Box 3007, FPO AA, PR 34051-8100

N65538, (MAJ00024), U0D Commanding Officer, Naval Sea Logistics Center, PO Box 2060, 5450 Carlisle Pike, Mechanicsburg, PA 17055-0795

N65888, ED Commanding Officer, Navy Aviation Depot, NAS North Island, PO Box 357058, San Diego, CA 92135-7058

N65912, GP Commanding Officer, Fleet Technical Support Center, 9727 Avionics Loop, Norfolk, VA 23511-2124

N65918, FT Commanding Officer, Shore Intermediate Maintenance Activity, 3755 Brinser Street, Suite 1, Box 368106, San Diego, CA 92136-5299

N65926, (MAJ00024), NSA-B Officer-in-Charge, Naval Underwater Systems Center Detachment, AUTEC West Palm Beach, PO Box 24619, West Palm Beach, FL 33416-4619

N65966 Commanding Officer, Fitting Out & Supply Support Assistance Center, PO Box 15129, Norfolk, VA 23511-0129

N6600, 17N Space and Naval Warfare Systems Center, 53560 Hull Street, San Diego, CA 92152-5001

N66021, 7G Commanding Officer, Naval Air Pacific Repair Activity, (Atsugi, Japan), PSC 477, Box 35, FPO AP, NA 96306-2735

N66022, (MAJ00018), MDW Commanding Officer, Naval Dental Center, 2310 Craven Street, PO Box 368147, San Diego, CA 92136-5596

N66023, (MAJ00018) Commanding Officer, Naval Dental Center, NE. 1173 Whipple Street, Newport, RI 02841-1642

N66094, (MAJ00018), QAA-B Commanding Officer, Naval Hospital, PSC Box 8023, Cherry Point, NC 28533-5008

N66095, (MAJ00018), J5E Commanding Officer, Naval Hospital, 929 Franklin Avenue, Lemoore, CA 93246-5004

N66096, (MAJ00018), QAJ Commanding Officer, Naval Hospital Naples, Italy, PSC 810, Box 19, FPO AE, NA 09619-0700

N66097, (MAJ00018), MDE Commanding Officer, Naval Hospital, 3475 North Saratoga Street, Oak Harbor, WA 98278-8800

N66098 Commanding Officer, Naval Hospital Patuxent River, 47149 Buse Road, Unit 1370, Patuxent River, MD 20670-1540

N66101, (MAJ00018), J5B-D Commanding Officer, U.S. Naval Hospital ROTA, PSC 819, Box 18, FPO AE, NA 09645-2500

N66319 Ship Support Office, PSC 464, Box 20, FPO AP, NA 96522-2200

N66398, (MAJ00022), ML6-7 Commanding Officer, Navy Motion Picture Service, 5720 Integrity Drive, Millington, TN 38055-6560

N66540, (MAJ00022), NVZ Morale, Welfare and Recreation Division, Chief of Naval Personnel, Navy Annex, Federal Building 2, Washington, DC 20370-5000

N66604, N4 Commander, Naval Undersea Warfare Center, Newport Division, 1 Simonpietri Drive, Newport, RI 02841-1708

N66612, (MAJ00062), L95 Commanding Officer, Naval Reserve Officers Training Corps Unit, The Citadel, 171 Moultrie Street, Jenkins Hall, Charleston, SC 29409-0770

N66617, (MAJ00024), L5T Navy Shipbuilding Liaison Office Spain, PSC 65, Box 50, APO AE, NA 09645-5385

N66630, (MAJ00011), LCS Commanding Officer, Naval Air Reserve, Naval Air Weapons Station, 355 Nar Road, Point Mugu, CA 93042-5018

N66691, 4P Commanding Officer, Naval Support Activity, Souda Bay, Crete, Greece, PSC 814, Box 01, FPO AE, NA 09865-0102

N66715, VJ Commander, Navy Recruiting Command, 801 North Randolph Street, Arlington, VA 22203-1991

N66752, (MAJ00069) Commanding Officer, Naval Security Group Activity, Misawa, Japan, Unit 5003, Code N8, APO AP, NA 96319-5000

N66753, (MAJ00062), R0G Commanding Officer, Naval Reserve Officers Training Corps Unit, Jacksonville University, 2800 University Boulevard North, Jacksonville, FL 32211-3394

N66809, (MAJ00062), R0V Commanding Officer, Naval Reserve Officers Training Corps Unit, Savannah State College, PO Box 20299, Savannah, GA 31404-9701

N66810, (MAJ00062), L9H Commanding Officer, Naval Reserve Officers Training Corps Unit, Southern University and A&M College, PO Box 9214, Baton Rouge, LA 70813-9214

N66833, (MAJ00060), LHL Commanding Officer, U.S. Naval Station Panama (Rodman, Canal Zone), FPO AA, NA 34061-1000

N66972, (MAJ00022), MQ2 Commanding Officer, Navy Recruiting District, 8525 NW 53rd Terrace, Suite 201, Miami, FL 33166-4521

N67596, (MAJ00022), NVD Commanding Officer, Navy Recruiting District, 10500 North U.S. Highway 281, Suite 108, San Antonio, TX 78216-3630

N68047, (MAJ00070), 4L0 Commanding Officer, Naval Regional Contracting Center, Singapore, PSC 470, Box 2100, FPO AP, NA 96534-2100

N68057, VZ Commanding Officer, Naval Computer and Telecommunications Area Master Station Atlantic, 9625 Moffett Avenue, Norfolk, VA 23511-2784

N68064, (MAJ00062), R0D Commanding Officer, Naval Reserve Officers Training Corps Unit, University of Florida, PO Box 118537, Gainesville, FL 32611-8537

N68072, (MAJ00062), L9V Commanding Officer, Naval Reserve Officers Training Corps Unit, Texas A&M University, PO Box 2920, College Station, TX 77843-2920

N68073, (MAJ00063), NTU Naval Computer and Telecommunications Station Diego Garcia, (British Indian Ocean Territory), FPO AP, NA 96464-0008

N68084, (MAJ00018), MDJ-M Commanding Officer, Naval Hospital, 3600 Rivers Avenue, North Charleston, SC 29405-7769

N68086, 7S Commanding Officer, Naval Ambulatory Care Center, 1 Riggs Road, Building 44, Newport, RI 02841-1002

N68088, (MAJ00061), NLL-N Officer-in-Charge, CINCUSAVEUR Detachment Iberlant Support Component, Oieras, Portugal, PSC 83, Box 82, APO AE, NA 09726

N68093, (MAJ00018), MCG-H Commanding Officer, Naval Hospital, Camp Lejeune, Brewster Boulevard, Building NH100, Camp Lejeune, NC 28547-0100

N68094, V9 Commanding Officer, Naval Hospital, Box 555191, Marine Corps Base, Camp Pendleton, CA 92055-5191

N68095, JF Commanding Officer, Naval Hospital, 1 Boone Road, Bremerton, WA 98312-1898

N68096, (MAJ00018), J50 Commanding Officer, Naval Hospital (Guam), PSC 455, Box 7717, FPO AP, NA 96538-1600

N68098, (MAJ00018), QAL-M Commanding Officer, Naval Medical Clinic, Box 121, Pearl Harbor, HI 96860-5080

N68139, (MAJ00062), 8AZ Commanding Officer, Naval Reserve Officers Training Corps Unit, Florida A&M University, PO Box 6508, Tallahassee, FL 32314-6508

N68141, (MAJ00062), L9P Commanding Officer, Naval Reserve Officers Training Corps Unit, Maine Maritime Academy, PO Box 137, Castine, ME 04421-0902

N68142, NK Commander, Naval Computer and Telecommunications Station, 103 West Avenue, Suite B, Code N112, Pensacola, FL 32508-5111

N68166, (MAJ00015), L01-2 Naval Technical Intelligence Center, 4301 Suitland Road, Washington, DC 20390-5720

N68171, M3 Commanding Officer, Naval Regional Contracting Center, (Naples, Italy), PSC 810, Box 50, FPO AE 09619-3700

N68175, (MAJ00022), MQA Navy Recruiting District New Jersey, Parkway Towers, Building A, 485 U.S. Route 1 South, Iselin, NJ 08830-3012

N68221, 7J Commanding Officer, Navy Personnel Research and Development Center, 53335 Ryne Road, San Diego, CA 92152-7250

N68246, (MAJ00070), 4LL-N Officer-in-Charge, FISC Yokosuka Det. (Sasebo, Japan), PSC 467, Box 6, FPO AP, NA 96322-1500

N68248, V6 Officer-in-Charge-of-Construction, Southern Division Contracts Office, Naval Submarine Base, Building 101, 1342 USS Simon Bolivar Road, Kings Bay, GA 31547-2613

N68292, (MAJ00018), J5A Commander, Naval Hospital, (Yokosuka, Japan), PSC 475, Box 6, FPO AP, NA 96350-1615

N68303, (MAJ00062), R0C Commanding Officer, Naval Reserve Officers Training Corps Unit, State University of New York, Maritime College, 6 Pennyfield Avenue, Fort Schuyler, Bronx, NY 10465-4198

N68306, (MAJ00011), 9TF Commander, Naval Reserve Readiness Command Region 6, 901 M Street SE, Building 200-3, Washington Navy Yard, Washington, DC 20374-5009

N68308, (MAJ00011), 9TQ Naval Reserve Readiness Command, Region 20, Building 1, NAVSTA Treasure Island, San Francisco, CA 94130-5032

N68317, (MAJ00062), R03 Officer-in-Charge, Naval Administrative Unit, 1 Amsterdam Road, Scotia, NY 12302-9460

N68322, 7Z Commanding Officer, Naval Education and Training, Professional Development and Technology Center, 6490 Saufley Field Road, Pensacola, FL 32509-5237

N68323, (MAJ00011), LBC Naval Legal Service Office, 200 Stovall Street, Alexandria, VA 22332-2400

N68326, (MAJ00018), MDA Commanding Officer, Naval Dental Center, 2730 Sampson Road, Building 73, Great Lakes, IL 60088-6008

N68327, (MAJ00022), ML8 Commanding Officer, Naval Reserve Personnel Center, 4400 Dauphine Street, New Orleans, LA 70149-7800

N68328, (MAJ00011), 9TJ Commander, Naval Reserve Readiness Command Region 22, Building 2102, Naval Station 2000 West Marine View Drive, Seattle, WA 98207-2600

N68329, (MAJ00011), LCL Commander, Naval Reserve Readiness Command Region 5, Building 1033, USAAP, Ravenna, OH 44266-9211

N68330, (MAJ00011), 9TN Commander, Naval Reserve Readiness Command Region 13, 2601 Paul Jones Street, Great Lakes, IL 60088-5026

N68331, (MAJ00011), LCE F Commander, Naval Reserve Readiness Command Region 4, Building 5957, N. J. Avenue, Fort Dix, NJ 08640-7800

N68332, (MAJ00011), 9T0-1 Commander, Naval Reserve Readiness Command Region 18, 301 Navy Drive, Industrial Airport, KS 66031-0031

N68335, 4Y Naval Air Warfare Center, Aircraft Division, Contracts Department, Code 252000B129-2, Highway 547, Lakehurst, NJ 08733-5082

N68348, (MAJ00011), 9TG Commander, Naval Reserve Readiness Command Region 9, 5720 Integrity Drive, Building S-241, Millington, TN 38054-5013

N68350, (MAJ00011), LCH Commander, Naval Reserve Readiness Command Region 19, 960 North Harbor Drive, San Diego, CA 92132-5108

N68351, (MAJ00011), LCQ Commander, Naval Reserve Readiness Command Region 1, 344 Easton Street, Newport, RI 02841-1515

N68355, (MAJ00062), R0J Commanding Officer, Naval Reserve Officers Training Corps Unit, Virginia Military Institute, Kilbourne Hall, Lexington, VA 24450-2697

N68358, (MAJ00011), 9TA Commander, Naval Reserve Readiness Command Region 8, Building 966, Yorktown & Ajax, Naval Air Station, Jacksonville, FL 32212-0090

N68359, (MAJ00011), 9TB Commander, Naval Reserve Readiness Command Region 11, 1803 Doolittle Avenue, Fort Worth, TX 76127-1803

N68363 Commanding Officer, Naval Legal Service Office, 9620 Maryland Avenue, Suite 100, Norfolk, VA 23511-2989

N68389, (MAJ00011), LB4 Commander, Joint Intelligence Center, Pacific, PO Box 500, Makalapa Drive, Pearl Harbor, HI 96860-7450

N68391, (MAJ00022), MLB Navy Recruiting District, Harrisburg, 310 North Second Street, Harrisburg, PA 17101-1304

N68401, (MAJ00022), MLJ Commanding Officer, Navy Recruiting District, San Diego, 33055 Nixie Way, ASW Building 2, San Diego, CA 92147-5192

N68436, KC, J6 Commanding Officer, Naval Submarine Base, Bangor, 1100 Hunley Road, Silverdale, WA 98315-1199

N68443, 7T Commanding Officer, Naval Dental Clinic, 2240 Decatur Avenue, Bremerton, WA 98314-5245

N68470, (MAJ00018), J5J-M Commanding Officer, U.S. Naval Hospital, (Okinawa, Japan), PSC 482, Box 248, FPO AP, NA 96362-1695

N68482, (MAJ00022) Officer-in-Charge, Bureau of Naval Personnel Detachment, Drug and Alcohol Program Management Activity, 937 North Harbor Drive, Suite 17, San Diego, CA 92132-0017

N68499, LX Director, Naval Council of Personnel Boards, 901 M Street SE, Washington, DC 20374-5053

N68518 Commanding Officer, Naval Reserve Financial Information Processing Center, Code S43, 4400 Dauphine Street, New Orleans, LA 70146-5401

N68546, QG Commanding Officer, Navy Environmental Health Center, 2510 Walmer Avenue, Norfolk, VA 23513-2617

N68547, (MAJ00060), LHQ Commanding Officer, Personnel Support Activity, 17555 Powhattan Street, Suite 200, Norfolk, VA 23511-2985

N68560, QM Commanding Officer, Naval Computer and Telecommunications Station, PO Box 111, Building 919, Langley Street, Naval Air Station, Jacksonville, FL 32212-0111

N68561, (MAJ00039), NSE Space and Naval Warfare Systems Center, 1441 Crossways Boulevard, Chesapeake, VA 23320-2843

N68573, (MAJ00023), 4JM Commander, Navy Exchange Service Center, NAVBASE, Norfolk, Building CD-1, 9222 Hampton Boulevard, Norfolk, VA 23511-6390

N68582 Commanding Officer, Third Dental Battalion, U.S. Naval Dental Center, Unit 38450, Okinawa, Japan, FPO AP, NA 96604-8450

N68593, (MAJ00060), LHE Commanding Officer, Naval Ocean Processing Facility, 352 Bullpup Street, Dam Neck, Virginia Beach, VA 23461-2197

N68610, GF Commanding Officer, Fleet Hospital Support Office, 620 Central Avenue, Building 2G, Alameda, CA 94501-3874

N68636, (MAJ00024), EHJ-K Director, Naval Sea Logistics Center Detachment Atlantic, PO Box 100, Indian Head, MD 20640-0100

N68660, (MAJ00063), NT4 Commanding Officer, Naval Computer and Telecommunications, Puget Sound, 1008 Harder Road, Silverdale, WA 98315-1099

N68689, (MAJ00024), U0F Director, Human Resources Office Crystal City, Crystal Mall 2, Room 506, 1921 Jefferson Davis Highway, Arlington, VA 22241-5363

N68692, (MAJ00062), 8AX Commanding Officer, Naval Reserve Officers Training Corps Unit, University of San Diego/San Diego State University, 5998 Alcala Park, San Diego, CA 92110-2496

N68695, (MAJ00060), LHG Shore Intermediate Maintenance Activity, Naval Reserve Maintenance Facility, Building 133, Naval Base, Philadelphia, PA 19112-5066

N68699, (MAJ00062), 8AP Commanding Officer, Naval Reserve Officers Training Corps Unit, Old Dominion University/Hampton Institute/Norfolk State University, 5215 Hampton Boulevard, Norfolk, VA 23529-0120

N68710, (MAJ00062), L9K Commanding Officer, Naval Reserve Officers Training Corps Unit, Virginia Polytechnic Institute and State University, 420 Femoyer Hall, Blacksburg, VA 24061-0241

N68711, (MAJ00025), EFE-F Commander, Southwest Division, NAVFACENGCOM, 1220 Pacific Highway, Building 127, San Diego, CA 92132-5190

N68717, (MAJ00062), L9L Commanding Officer, Naval Reserve Officers Training Corps Unit, Boston University-MIT, Building W59-110, 77 Massachusetts Avenue, Cambridge, MA 02139-4807

N68726, (MAJ00062), R0T Commanding Officer, Naval Reserve Officers Training Corps Unit, The George Washington University, 729 21st Street NW, Washington, DC 20052-0001

N68727, (MAJ00062), 8AF Commanding Officer, Naval Reserve Officers Training Corps Unit, Mid South Region, Memphis State University, Campus Box 526260, Memphis, TN 38152-6260

N68728, (MAJ00062), 8AQ Commanding Officer, Naval Reserve Officers Training Corps Unit, Norwich University, 65 South Main Street, Northfield, VT 05663-1097

N68733, (MAJ00030), EKC Strategic Weapons Facility, Atlantic, Kings Bay, GA 31547-6600

N68742, (MAJ00070), LPA Commanding Officer, Naval Base, 1103 Hunley Road, Silverdale, WA 98315-1103

N68753, (MAJ00070), V5L Naval Air Pacific Repair Activity Det., Singapore, SAE Singapore, FPO AP, NA 96536-2700

N68762 Officer-in-Charge-of-Construction, Naval Facilities Engineering Command Contracts, (Puerto Rico Area), PSC 1008, Box 3976, FPO AA, NA 34051-3976

N68779 Military Sealift Command, Atlantic Detachment Charleston Army Depot, PO Box 5124, Charleston, SC 29406-0124

N68829, (MAJ00060), J0J Shore Intermediate Maintenance Activity (NRMF), Pier 2, Building 68 NETC, Newport, RI 02841-5001

N68838 Commander, Naval Supply System Command Detachment Fleet, Fort Detrick, Building S10, Hospital Program Office, Frederick, MD 21702-5021

N68850, J5N Commanding Officer, Navy Drug Screening Laboratory, PO Box 113, Naval Air Station, Jacksonville, FL 32212-0113

N68857, (MAJ00062), 8AC Commanding Officer, Naval Reserve Officers Training Corps Unit, Texas Tech University, Lubbock, TX 79409-4559

N68875, (MAJ00018), QAP-S Naval Hospital (Keflavik, Iceland), PSC 1003, Box 8, FPO AE, NA 09728-0308

N68877, (MAJ00062), R0Y Commanding Officer, Naval Reserve Officers Training Corps Unit, Carnegie Mellon University, HBH-A200, 5000 Forbes Avenue, Pittsburgh, PA 15213-3890

N68891, (MAJ00060), LH5 Commanding Officer, Naval Station Ingleside, 1455 Ticonderoga Road, Suite W210, Ingleside, TX 78362-5000

N68899, (MAJ00011), LCW Commander, Naval Reserve Intelligence Command, NAS Joint Reserve Base, Fort Worth, TX 76127-1550

N68911 Officer-in-Charge-of-Construction, Naval Facilities Engineering Command Contracts, Naval Hospital, Building 286, PO Box 5310, Portsmouth, VA 23708-5310

N68925, 8J Commanding Officer, Navy Public Works Center, Building 201, Washington Navy Yard, 901 M Street SE, Washington, DC 20374-5041

N68936, GM Naval Air Warfare Center, Weapons Division, 1 Administration Circle, China Lake, CA 93555-6100

N68950, (MAJ00025), F27 Engineering Field Activity Midwest, Naval Training Center, Building 1A, Suite 120, 2703 Sheridan Road, Great Lakes, IL 60088-5600

N68958, (MAJ00024), U10-9 Officer-in-Charge, SUPSHIP New Orleans Detachment, Ingleside, 125 Coral Sea Road, Trailer 13, Ingleside, TX 78362-5000

N68967, (MAJ00070), LPS-T, LPW-Y Commanding Officer, Naval Station Everett, 2000 West Marine View Drive, Everett, WA 98207-5001

N69197 Director, Human Resources Operations Center, 800 North Quincy Street, Ballston Tower 1, Arlington, VA 22203-1998

N69199 Director, Human Resources Service Center East Region, Norfolk Naval Shipyard, Building 17, Portsmouth, VA 23709-5000

N69212 Commanding Officer, Naval Weapons Station Yorktown, Box 160, Yorktown, VA 23691-0160

N70092, (MAJ00069), 8QJ-K, Q-R Commanding Officer, Naval Security Station, 3801 Nebraska Avenue NW, Building 18-139, Washington, DC 20390-5440

N70240, M6 Commanding Officer, Naval Computer and Telecommunications Station, Naval Air Station North Island, PO Box 357056, San Diego, CA 92135-5110

N70243 Commanding Officer, Naval Computer and Telecommunications Station, PSC 488, Box 122, FPO AP, GU 96537-1819

N70272, 8G, ND, LQ Officer-in-Charge-of-Construction, Naval Computer and Telecommunications Area Master Station, Facility Support Center, Public Works Division, 9624 Moffett Avenue, Norfolk, VA 23511-6898

N70283, (MAJ00069), 8QE Commanding Officer, Naval Security Group Activity, Code 30, Galeta Island, Canal Zone, FPO AA, NA 34060-9998

N70294, 8H Commanding Officer, Naval Computer and Telecommunications Area, Master Station MED, Naples, Italy, PSC 822, Box 1000, FPO AE, NA 09621-7000

N91732, (MAJ00011), H8 Commanding Officer, Naval Occupational Safety and Health and Environmental Training Center, 9080 Breezy Point Crescent, Norfolk, VA 23511-3998

Part 4—Marine Corps Activity Address Numbers

M00027, MS*, MU*, MS0-9 Commandant of the Marine Corps, Headquarters, U.S. Marine Corps (LBC), 2 Navy Annex, Washington, DC 20380-1775

M00146, MT Marine Corps Regional Contracting Office (SUL), COMCABEAST, Marine Corps Air Station, Cherry Point, NC 28533-0018

M00243, NE Marine Corps Regional Contracting Office, 4411 Belleau Avenue, Marine Corps Recruit Depot/WRR, San Diego, CA 92140-5380

M00262, (MAJ00027), MUG Marine Air Corps Facility, 2100 Rowell Road, Quantico, VA 22134-5063

M00263, MX Marine Corps Regional Contracting Office, PO Box 5069, Marine Corps Recruit Depot/ERR, Parris Island, SC 29905-5069

M00264, (MAJ00027), MUT Marine Corps Regional Contracting Office, Northeast Region, 2010 Henderson Road, Quantico, VA 22134-5045

M00318, (MAJ00027), MUK-M Contracting Office (Code LSCP), Marine Corps Base Hawaii, Supply Dept, Box 63063, MCBH, Kaneohe Bay, HI 96744-3063

M00681, NG Marine Corps Regional Contracting Office, PO Box 1609, Oceanside, CA 92054-1609

M20002 Contracting Officer, HQ, U.S. Marine Forces South, 8420 NW 52nd Street, Miami, FL 33166

M60050, MV Marine Corps Regional Contracting Office, COMCABWEST, Marine Corps Air Station, El Toro, CA 92709-5001

M60169, W0 Contracting Office, Marine Corps Air Station, PO Box 55010, Beaufort, SC 29904-5010

M62204, NC Marine Corps Regional Contracting Office, Marine Corps Logistics Base, PO Box 110340, Barstow, CA 92311-5039

M62613, MUE Contracting Office, Marine Corps Air Station, PSC 561, Box 1872, Iwakuni, Japan, FPO AP, NA 96310-1872

M64495 Contracting Office, Marine Corps Mountain Warfare Training Center, Box 5009, Bridgeport, CA 93517-5009

M67001, NB Marine Corps Regional Contracting Office, PSC Box 20004, Marine Corps Base, Camp Lejeune, NC 28542-0004

M67004, (MAJ00027), NC COMMARCORLOGBASES, Marine Corps Regional Contracting Office, Marine Corps Logistics Base (Code 89), PO Drawer 43019, Albany, GA 31704-3019

M67011, (MAJ00027) Commander Officer, 1st Marine Corps District, 605 Stewart Avenue, Garden City, NY 11530-4761

M67013, (MAJ00027), MSC Commanding Officer, 4th Marine Corps District, DDRE, Building 54, Suite 3, Box 806, New Cumberland, PA 17070-0806

M67015, (MAJ00027), MSE Commanding Officer, 6th Marine Corps District, PO Box 19201, Marine Corps Recruit Depot, Eastern Recruiting Region, Parris Island, SC 29905-9201

M67016, (MAJ00027), MSG Commanding Officer, 8th Marine Corps District, Building 10, Room 121, NSA, New Orleans, LA 70142-5100

M67017, (MAJ00027), MSJ Commanding Officer, 9th Marine Corps District, 3805 155th Street, Building 710, Kansas City, MO 64147-1309

M67019, (MAJ00027), MSL Commanding Officer, 12th Marine Corps District, 3704 Hochmuth Avenue, San Diego, CA 92140-5191

M67029, (MAJ00027), MSN Contracting Office, Marine Barracks, 8th and I Street, SE, Washington, DC 20390-5000

M67351 COMMARFOREUR, Marine Corps Regional Contracting Office, HQ FMF Europe (Designate), Panzer Kaserne, Building 2901, APO AE, NA 09046-0160

M67353, (MAJ00027), MSQ Contracting Office (HQBN-1), HQBN HQMC Henderson Hall, Building 28, Battalion Supply, Arlington, VA 22214-5000

M67354 Contracting Office, Headquarters, U.S. Marine Corps (Code ARD), 2 Navy Annex, Arlington, VA 20380-1775

M67355, (MAJ00027), MUN Marine Corps Regional Contracting Office (Code N45), Expeditionary Warfare Training Group, Atlantic, 1575 Gator Boulevard, Suite 243, Norfolk, VA 23521-2740

M67385, (MAJ00027), MU0-1 COMMARFORPAC, Marine Corps Regional Contracting Office (LSCP), HQSVCBN, Building 600, Box 64131, Camp H. M. Smith, HI 96861-5010

M67386, LG Marine Corps Regional Contracting Office, (Midwest), Marine Corps Support Activity, 15430 Andrew Road, Kansas City, MO 67147-1208

M67399, NF Marine Corps Regional Contracting Office, Northwest Region, PO Box X24, Building 1525, Marine Corps Air-Ground Combat Center, Twentynine Palms, CA 92278-0124

M67400, QJ Marine Corps Regional Contracting Officer (Far East), MCB Camp Smedley D. Butler, PSC 577, Box 2000, Building 355, Okinawa, Japan, FPO AP, NA 96379-2000

M67438 Contingency Contracting Office, Unit 3880401, 3rd FSSG, FPO AP, NA 96604-8401

M67854, (MAJ00027), MU6-9 Commander, Marine Corps Systems Command, 2033 Barnett Avenue, Suite 315, Quantico, VA 22134-5010

M67861, MUC, MSU Marine Corps Regional Contracting Office, Marine Forces Reserve, 4400 Dauphine Street, New Orleans, LA 70146-5400

M68447 Contingency Contracting Office, 2nd Supply Battalion, 2nd FSSG, PSC Box 20120, Camp Lejuene, NC 28542-0128

M68450 Contingency Contracting Office, SMU, 1st Supply Battalion, 1st FSSG , PO Box 1609, Oceanside, CA 92501-1609

M68909, (MAJ00027), MU3 Commanding Officer, Marine Corps Tactical Systems Support Activity, PO Box 555171, Camp Pendleton, CA 92055-5171

Part 5—Air Force Activity Address Numbers

F01600, 5A 42 CONS/CC, 50 Lemay Plaza South, Building 804, Maxwell AFB, AL 36112-6334

F01620, 6K SSG/PK, 375 Libby Street, MAFB-Gunter Annex, AL 36114-3207

F02601, 5C 355 CONS/CC, 3180 South Craycroft Road, Davis Monthan AFB, AZ 85707-3522

F02604, 5D 56 CONS/CC, 14100 West Eagle Street, Luke AFB, AZ 85309-1217

F03602, 5F 314 CONS/CC, 642 Thomas Avenue, Little Rock AFB, AR 72099-5119

F04605, 5H 482 LSS/LGC, 820 Baucom Avenue NW, Suite 101, March AFB, CA 92518-2260

F04606 SM SM-ALC/PK, 3237 Peacekeeper Way, Suite 17, McClellan AFB, CA 95652-1060

F04611, QQ AFFTC/PK, Building 2800, 5 South Wolfe Avenue, Edwards AFB, CA 93524-1185

F04626, 5M 60 CONS/LGC, 350 Hangar Avenue, Building 549, Travis AFB, CA 94535-2632

F04666, 5N 9 CONS/CC, 6500 B Street, Suite 101, Beale AFB, CA 95903-1712

F04684, QW 30 CONS/LGC, Building 7015, Section 2c, Suite D, 806 13th Street, Vandenberg AFB, CA 93437-6025

F04689, RN 750 LSS/LGC, 1080 Lockheed Way, Box 039, Onizuka AFB, CA 94089-1234

F04693, MG SMC/PKO, 400 North Douglas Boulevard, Suite 212E, Los Angeles, CA 90245-4640

F04699, Q5 SM-ALC/PK, 3227 Peacekeeper Way, Suite 17, McClellan AFB, CA 95652-1060

F04700, Q2 AFFTC/PKA, 5 South Wolfe Avenue, Building 2800, Edwards AFB, CA 93524-1185

F04701, TB SMC/PK, 155 Discoverer Boulevard, Suite 1516, Los Angeles, CA 90245-4692

F05603 HQ AFSPC/LGC, 150 Vandenberg Street, Suite 1105, Peterson AFB, CO 80914-4350

F05604, SX 21 CONS/LGC, 700 Suffolk Street, Peterson AFB, CO 80914-1200

F05611, 5Q 10 ABW/LGC, 8110 Industrial Drive, Suite 200, USAF Academy, CO 80840-2315

F07603, 5R 436 CONS/LGC, 639 Atlantic Street, Suite 243, Dover AFB, DE 19902-5639

F08602, 5S 6 CONS/CC, 2606 Brown Pelican Avenue, MacDill AFB, FL 33621-5000

F08620, 5T 16 CONS/LGC, PO Box 9190, 350 Tully Street, Hurlburt Field, FL 32544-5825

F08630, S1 AFRL/MNK, 101 West Eglin Boulevard, Suite 337, Eglin AFB, FL 32542-6810

F08635, RH AAC/PK, 205 West D Avenue, Suite 433, Eglin AFB, FL 32542-6864

F08637, 5V 325 CONS/CC, 501 Illinois Avenue, Suite 5, Tyndall AFB, FL 32403-5526

F08650, TJ 45 CONS/LGC, 1201 Edward H. White II Street, MS7200, Patrick AFB, FL 32925-3227

F08651, Q3 AAC/PKO, 205 West D Avenue, Suite 541, Eglin AFB, FL 32542-6862

F09603, RJ, RR WR-ALC/PK, Building 300, 215 Byron Street, Robins AFB, GA 31098-1611

F09604, RU LR Directorate/PK, 750 3rd Street, Building 350, Robins AFB, GA 31098-2122

F09607, 5W 347 CONS/CC, 4380B Alabama Road, Moody AFB, GA 31699-1793

F09609, 5X 94 LG/LGC, 1538 Atlantic Avenue, Suite 141, Dobbins ARB, GA 30069-4824

F09634, 5Y HQ AFRC/LGC, 155 2nd Street, Robins AFB, GA 31098-1635

F09650, Q6 WR-ALC/PKO, 235 Byron Street, Robins AFB, GA 31098-1611

F10603, 5Z 366 CONS/CC, 366 Gunfighter Avenue, Suite 498, Mountain Home AFB, ID 83648-5296

F11623, 6C 375 CONS/LGC, 102 East Martin Street, Suite 216, Scott AFB, IL 62225-5015

F11626, RL HQ AMC/DOKR, 402 Scott Drive, Unit 3A1, Scott AFB, IL 62225-5302

F12617, 6D 434 LSS/LGC, 448 Mustang Avenue, Grissom ARB, IN 46971-5320

F14614, X4 22 CONS/LGC, 53147 Kansas Street, Suite 102, McConnell AFB, KS 67221-3606

F16602, 6G 2 CONS/CC, 841 Fairchild Avenue, Barksdale AFB, LA 71110-2271

F19617, R5 439 LSS/LGC, 250 Airlift Drive, Westover Air Reserve Base, Chicopee, MA 01022-1525

F19628, RS ESC/PK, 104 Barksdale Street, Hanscom AFB, MA 01731-1806

F19650, SH ESC/PKO, Building 1520, 104 Barksdale Street, Hanscom AFB, MA 01731-1806

F21611, 6N 934 LSS/LGC, 760 Military Highway, Minneapolis-St. Paul ARS, Minneapolis, MN 55450-2000

F22600, RC 81 CONS/CC, 200 Fifth Street, Room 104, Keesler AFB, MS 39534-2102

F22608, 6Q 14 CONS/CC, 555 Seventh Street, Suite 113, Columbus AFB, MS 39701-1006

F23606, 6R 509 CONS/CC, 850 Arnold Avenue, Suite 2, Whiteman AFB, MO 65305-5054

F24604, 6T 341 CONS/LGC, 7015 Goddard Drive, Malmstrom AFB, MT 59402-6863

F25600, 6U 55 CONS/CC, 101 Washington Square, Offutt AFB, NE 68113-2107

F26600, S4 99 CONS/CC, 5865 Swabb Boulevard, Nellis AFB, NV 89191-7063

F28609, 6V 305 CONS/LGC, 3563 Lancaster Avenue, McGuire AFB, NJ 08641-1712

F28620, M1 65 CONS/CC, Unit 7775, Building T615, Lajes AB, APO AE 09720-7775

F28620, S8 65 CONS/OL-A, PO Box 837, Wrightstown, NJ 05862-0837

F29601, RW Det 8, AFRL/PK, 2251 Maxwell Avenue SE, Kirtland AFB, NM 87117-5773

F29605, 6W 27 CONS/CC, 100 North Torch Boulevard, Cannon AFB, NM 88103-5131

F29650, R3 377 LG/LGC, 2251 Maxwell Avenue SE, Kirtland AFB, NM 87117-5773

F29651, 6X 49 CONS/CC, 1210 Fortyniner Avenue, Holloman AFB, NM 88330-5010

F30602, RX AFRL/IFK, 26 Electronic Parkway, Rome, NY 13441-4514

F30617, 6Y 914 AW/LGC, 2720 Kirkbridge Drive, Niagara Falls IAP-ARS, NY 14304-5001

F31601, BU 43 CONS/CC, 1443 Reilly Road, Suite C, Pope AFB, NC 28308-2896

F31610, BW 4 CONS/CC, 1695 Wright Brothers Avenue, Seymour Johnson AFB, NC 27531-2459

F32604, BX 5 CONS/CC, BX 211 Missile Avenue, Minot AFB, ND 58705-5027

F32605, BY 319 CONS/CC, 575 6th Avenue, Grand Forks AFB, ND 58205-6436

F33600, RZ ASC/PKW, 1940 Allbrook Drive, Suite 3, Building 1, Wright Patterson AFB, OH 45433-5309

F33601, Q7 ASC/PKWO, 1940 Allbrook Drive, Suite 3, Building 1, Wright Patterson AFB, OH 45433-5309

F33615, SG Det 1, AFRL/PK, 2530 C Street, Wright Patterson AFB, OH 45433-7607

F33630, C1 910 AW/LGC, 3976 King Graves Road, Unit 25, Youngstown Air Reserve Station, Vienna, OH 44473-5925

F33657, SC ASC/PK, Building 14, Room 107, 1865 Fourth Street, Wright Patterson AFB, OH 45433-7120

F34600, C2 71 FTW/CVC, 246 Brown Parkway, Suite 228, Vance AFB, OK 73705-5037

F34601, SD OC-ALC/PK, 3001 Staff Drive, Suite 1AG76A, Tinker AFB, OK 73145-3015

F34608, TF 38 LS/LGC, 4008 Hilltop Road, Suite 103, Tinker AFB, OK 73145-2713

F34612, C3 97 CONS/CC, 205 South 6th Street, Building 318, Altus AFB, OK 73523-5147

F34650, Q9 OC-ALC/PKO, Building 3, Suite 1, 7858 Fifth Street, Tinker AFB, OK 73145-9106

F36629, C7 911 AW/LGC, 2375 Hercules Court, Pittsburgh IAP-ARS, Corapolis, PA 15108-4495

F36700, C8 913 LG/LGC, 1051 Fairchild Street, Willow Grove ARS, PA 19090-5203

F38601, C9 20 CONS/CC, 305 Blue Jay Street, Shaw AFB, SC 29152-5004

F38604, T3 USCENTAF, 524 Shaw Drive, Shaw AFB, SC 29152-5029

F38610, CR 437 CONS/LGC, 102 Long Street, Charleston AFB, SC 29404-4829

F39601, CT 28 CONS/LGC, 1000 Ellsworth Street, Suite 1200, Ellsworth AFB, SD 57706-4910

F40600, Q4 AEDC/PK, 100 Kindel Drive, Suite A335, Arnold AFB, TN 37389-1335

F40650, D1 AEDC/PKP, 100 Kindel Drive, Suite 1332, Arnold AFB, TN 37389-1332

F41608, SA SA-ALC/PK, 485 Quentin Roosevelt Road, Suite 12, Kelly AFB, TX 78241-6419

F41612, D4 82 CONS/CC, 136 K Avenue, Suite 2, Sheppard AFB, TX 76311-2739

F41614, E2 17 CONS/CC, 210 Scherz Boulevard, Goodfellow AFB, TX 76908-4705

F41622, QY HSC/PKO, Building 625, 8005 9th Street, Brooks AFB, TX 78235-5353

F41624, TG HSC/PK, Building 626, 8005 9th Street, Brooks AFB, TX 78235-5353

F41636, ZV 37 CONS/CC, 1655 Selfridge Avenue, Lackland AFB, TX 78236-5253

F41650, YA SA-ALC/PKO, Building 1598, 1288 Growden Road, Kelly AFB, TX 78251-5318

F41652, E5 7 CONS/CC, 381 3rd Street, Dyess AFB, TX 79607-1581

F41685, E6 47 CONS/CC, 171 Alabama Avenue, Laughlin AFB, TX 78840-5102

F41689, SK AETC CONS/CC, 550 D Street, Suite 07, Randolph AFB, TX 78150-4434

F41691, Y0 12 CONS/CC, 395 B Street West, Suite 02, Randolph AFB, TX 78150-4525

F42600, QP OO-ALC/PK, Building 1289 SE, 6038 Aspen Avenue, Hill AFB, UT 84056-5805

F42610, QP OO-ALC/LMK, Building 1289 SE, 6038 Aspen Avenue, Hill AFB, UT 84056-5821

F42620, QP OO-ALC/LFK, Building 1233, 6072 Fir Avenue, Hill AFB, UT 84056-5820

F42630, QP OO-ALC/LIK, Building 1215, 6050 Gum Lane, Hill AFB, UT 84056-5825

F42650, R2 OO-ALC/PKO, Building 1289 SE, 6038 Aspen Avenue, Hill AFB, UT 84056-5805

F44600, F3 1 CONS/CC, 74 Nealy Avenue, Suite 100, Langley AFB, VA 23665-2088

F44650, Q1 ACC CONS, 130 Douglas Street, Suite 210, Langley AFB, VA 23665-2791

F45603, F5 62 CONS/LGC, 100 Main Street, Suite 1049, McChord AFB, WA 98438-1109

F45613, F8 92 CONS/LGC, 110 West Ent Street, Suite 200, Fairchild AFB, WA 99011-9403

F47606, G7 440 AW/LGC, 300 East College Avenue, Gen. Mitchell IAP, Milwaukee, WI 53207-6299

F48608, G9 90 CONS/LGC, 7505 Marne Loop, F.E. Warren AFB, WY 82005-2860

F49620, SE AFOSR/PK, 801 North Randolph Street, Room 732, Arlington, VA 22203-1977

F49642, J1 11 CONS/LGC, 500 Duncan Avenue, Room 250,

Bolling AFB, DC 20332-0305

F61101, T1 Det 1, 21 CONS/CC, Copenhagen AB, APO AE 09716-5000

F61211, N9 31 FW/LGC, Unit 6102, Box 140, Aviano AB APO AE 09601-2140

F61354, W8 425 ABS/LGC, Unit 6870, Box 85, Izmir AB APO AE 09821-7085

F61358, W9 39 CONS/LGC, Unit 1045, Box 280, Incirlik AB APO AE 09824-0285

F61503, UC 469 ABG/LGC, Unit 7420, Box 115, Rhein Main AB APO AE 09050-0115

F61517, UF 52 CON FLT/LGC, Unit 3910, Building 2001, Spangdahlem AB APO AE 09137-3910

F61521, UH, UJ USAFE CONS/LGC, Unit 3115, Ramstein AB APO AE 09094-3115

F61730, UQ 423 ABS/LGC, PSC 47, Unit 5720, RAF Alconbury APO AE 09470-5720

F61775, UV 48 CONS/LGC, Unit 5070, Box 270, RAF Feltwell APO AE 09461-0270

F61815, UW 496 ABS/LGC, Unit 6585, Moron AB APO AE 09643-6585

F62032, 4D USMTM, Unit 61300, Box 2, Saudi Arabia, APO AE 09803-1300

F62321, RA 18 CONS/LGC, Unit 5199, Kadena AB APO AP 96368-5199

F62509, QZ 35 CONS, Unit 5201, Misawa AB APO AP 96319-5201

F62562, SW 374 CONS/LGC, Unit 5228, Yokota AB APO AP 96328-5228

F64133, S9 36 CONS/CC, Unit 14040, Anderson AFB APO AP 96543-4040

F64605, TN 15 CONS/LGC, 90 G Street, Hickam AFB, HI 96853-5230

F65501, WF 3 CONS/CC, 6920 12th Street, Suite 242, Elmendorf AFB, AK 99506-2570

F65503, WH 354 CONS/LGC, 3112 Broadway Avenue, Suite 3, Eielson AFB, AK 99702-1850

F66501, R7 24 CONS/CC, Unit 0550, Howard AFB APO AA 34001-5000

FA0021 HQ AFSOC/PKMZ, 100 Bartley Street, Hurlburt Field, FL 32544-5273

FA2550 50 CONS, 66 Falcon Parkway, Suite 49, Schreiver AFB, CO 80912-6649

FA4416, 5J 89 CONS/LGC, 1419 Menoher Drive, Andrews AFB, MD 20762-6500

FA4452, RL AMCCONF/LGCF, 102 East Martin Street, Room 216, Scott IL 62225-5015

FA6648, 5U 482 LSS/LGC, 29050 Coral Sea Boulevard, Box 50, Homestead ARS, FL 33039-1299

FA6675, D5 301 LSS/LGC, 1710 Burke Street, Suite 100, NAS Fort Worth, TX 76127-6200

FA8623 ASC/ENVK, Building 8, Room 201, 1801 10th Street, Wright Patterson AFB, OH 45433-7626

FA8770 MSG/PK, 4375 Childlaw Road, Room C022, Wright Patterson AFB, OH 45433-5006

Part 6—Defense Logistics Agency Activity Address Numbers

SA7003, 1P Defense Automated Printing Service, 700 Robbins Avenue, Building 4 D, Philadelphia, PA 19111-5093

SA7007, 1P Defense Automated Printing Service, 5450 Carlisle Pike, PO Box 2020, Mechanicsburg, PA 17055-0788

SA7008, 1P Defense Automated Printing Service, 2825 D Avenue, Charleston, SC 29408-1819

SA7012, 1P Defense Automated Printing Service, 80 Post Lane, Camp LeJeune, NC 28547-2527

SA7014, 1P Defense Automated Printing Service, 47 Chandler Street, Newport, RI 02841-1707

SA7019, 1P Defense Automated Printing Service, Building 655, Fort Eustis, VA 23604-5093

SA7021, 1P Defense Automated Printing Service, 1401 South Fern Street, Arlington, VA 22201-1401

SA7023, 1P Defense Automated Printing Service, 2530 Paul Jones, Building 2A, Great Lakes, IL 60088-5700

SA7026, 1P Defense Automated Printing Service, 4165 Communications Boulevard, Building 281, Suite 2, Dayton, OH 45433-5602

SA7031, 1P Defense Automated Printing Service, 1641 Morris Street, Naval Station Norfolk, VA 23511-2898

SA7033, 1P Defense Automated Printing Service, 4400 Dauphine Street, Unit 601 3-B, New Orleans, LA 70146-6300

SA7039, 1P Defense Automated Printing Service, 151 Ellyson Avenue, Naval Air Station Pensacola, FL 32508-5121

SA7042, 1P Defense Automated Printing Service, McFarland Street, Building 721, Jacksonville, FL 32212-0003

SA7049, 1P Defense Automated Printing Service, 568 Spacelift Avenue, Building 318, Patrick AFB, FL 33040-5000

SA7051, 1P Defense Automated Printing Service, PSC 1005, Box 28, Building 1842, Guantanamo Bay, Cuba, FPO AE 09593-0128

SA7053, 1P Defense Automated Printing Service, 901 South Drive, Building 700 East, Scott AFB, IL 62225-5106

SA7054, 1P Defense Automated Printing Service, PO Box 20013, Building 110, 4300 Goodfellow Boulevard, St. Louis, MO 63120-1798

SA7055, 1P Defense Automated Printing Service, 601 East 12th Street, Kansas City, MO 64106-2896

SA7057, 1P Defense Automated Printing Service, 4300 Hoover Street, San Diego, CA 92136-5595

SA7058, 1P Defense Automated Printing Service, 250 South Butler Avenue, Gunter Annex, Maxwell AFB, AL 36114-3104

SA7064, 1P Defense Automated Printing Service, Building 550 3989, Box 126, Pearl Harbor, HI 96860-3440

SA7065, 1P Defense Automated Printing Service, 1100 Hunley Road, Silverdale, WA 98315-5740

SA7069, 1P Defense Automated Printing Service, 255 Cochran Street, Robins AFB, GA 31098-1623

SA7079, 1P Defense Automated Printing Service, PSC 455, Box 200, Naval Supply Station, Guam, FPO AP 96540-1200

SA7080, 1P Defense Automated Printing Service, PSC 557, Box 1475, Okinawa, Japan, FPO AP 96379-1475

SA7081, 1P Defense Automated Printing Service, PSC 473, Box 26, Yokosuka, Japan, FPO AP 96349-1108

SP0100, TW Defense Supply Center Philadelphia, Directorate of Clothing & Textiles, 700 Robbins Avenue, Philadelphia, PA 19111-5096

SP0103, W7 Defense Supply Center Philadelphia, Installation Support, 700 Robbins Avenue, Philadelphia, PA 19111-5096

SP0200, TX Defense Supply Center Philadelphia, Directorate of Medical Materiel, 700 Robbins Avenue, Philadelphia, PA 19111-5096

SP0300, UE Defense Supply Center Philadelphia, Directorate of Subsistence, 700 Robbins Avenue, Philadelphia, PA 19111-5096

SP0302, W6 Defense Supply Center Philadelphia, Pacific, ATTN: DSCP-Pacific, 2155 Mariner Square Loop, Alameda, CA 94501-1022

SP0303, U6 Defense Supply Center Philadelphia, Europe, ATTN: DSCP-Europe, APO AE 09052-5000

SP0400, TY, XK, Z1, Z3, Z6 Defense Supply Center Richmond, Business Operations, 8000 Jefferson Davis Highway, Richmond, VA 23297-5770

SP0410, XH Defense Supply Center Richmond, Base Spt Div, Directorate of Procurement, 8000 Jefferson Davis Highway, Richmond, VA 23297-5312

SP0411, TY Defense Supply Center Richmond, Proc Br (ESOC), Customer Asst Ctr, 8000 Jefferson Davis Highway, Richmond, VA 23297-5871

SP0413, TY Defense Supply Center Richmond, Spec Purchase Br, Prod Ctr Spt Div, 8000 Jefferson Davis Highway, Richmond, VA 23297-5864

SP0414, TY Defense Supply Center Richmond, SASPS Phase I Br, Prod Ctr Spt Div, 8000 Jefferson Davis Highway, Richmond, VA 23297-5864

SP0430, TY Defense Supply Center Richmond, Procurement Branch, Product Center 5, 8000 Jefferson Davis Highway, Richmond, VA 23297-5813

SP0440, TY Defense Supply Center Richmond, Procurement Branch, Product Center 7, 8000 Jefferson Davis Highway, Richmond, VA 23297-5834

SP0441, TY Defense Supply Center Richmond, Procurement Branch, Product Center 6, 8000 Jefferson Davis Highway, Richmond, VA 23297-5822

SP0450, TY Defense Supply Center Richmond, Procurement Branch, Product Center 4, 8000 Jefferson Davis Highway, Richmond, VA 23297-5800

SP0451, TY Defense Supply Center Richmond, Procurement Branch, Product Center 2, 8000 Jefferson Davis Highway, Richmond, VA 23297-5772

SP0460, TY Defense Supply Center Richmond, Procurement Branch, Product Center 1, 8000 Jefferson Davis Highway, Richmond, VA 23297-5772

SP0461, TY Defense Supply Center Richmond, Special Purchase Branch (SPUR), 8000 Jefferson Davis Highway, Richmond, VA 23297-5864

SP0470 Defense Supply Center Richmond, Procurement Branch, Product Center 10, 8000 Jefferson Davis Highway, Richmond, VA 23297-5352

SP0475 Defense Supply Center Richmond, Procurement Branch, Product Center 11, 8000 Jefferson Davis Highway, Richmond, VA 23297-5361

SP0480, TY Defense Supply Center Richmond, Procurement Branch, Product Center 3, 8000 Jefferson Davis Highway, Richmond, VA 23297-5876

SP0490, TY Defense Supply Center Richmond, Procurement Branch, Product Center 1, 8000 Jefferson Davis Highway, Richmond, VA 23297-5846

SP0495 Defense Supply Center Richmond, Directorate of Business Operations, ATTN: ECAT, 8000 Jefferson Davis Highway, Richmond, VA 23297-5770

SP0499 Defense Supply Center Richmond-FCIM, 8000 Jefferson Davis Highway, Richmond, VA 23297-5770

SP0500, TZ, WU Defense Supply Center Philadelphia, 700 Robbins Avenue, Philadelphia, PA 19111-5096

SP0520 Defense Supply Center Philadelphia, Product Verification Testing Acquisition, 700 Robbins Avenue, Philadelphia, PA 19111-5096

SP0540 Defense Supply Center Philadelphia, 700 Robbins Avenue, Philadelphia, PA 19111-5096

SP0560 Defense Supply Center Philadelphia, 700 Robbins Avenue, Philadelphia, PA 19111-5096

SP0599 Defense Supply Center Philadelphia-FCIM, 700 Robbins Avenue, Philadelphia, PA 19111-5096

SP0600, UA Defense Energy Support Center, 8725 John J. Kingman Road, Suite 2533, Fort Belvoir, VA 22304-6160

SP0700, UB, UZ, U3 Defense Supply Center Columbus, PO Box 3990, Columbus, OH 43216-3990

SP0701 Defense Supply Center Columbus, ATTN: DSCC-OT, Building 20, Fourth Floor, Columbus, OH 43216-5000

SP0710, YL Defense Supply Center Columbus, Base Contracting, PO Box 16704, Columbus, OH 43216-5010

SP0720, YM Defense Supply Center Columbus, Lumber Solicitations/Awards, PO Box 16704, Columbus, OH 43216-5010

SP0730, WZ Defense Supply Center Columbus, Military Interdepartmental PR MIPR Division, PO Box 3990, Columbus, OH 43216-5000

SP0740, XJ Defense Supply Center Columbus, Aerospace Solicitations/Awards, PO Box 3990, Columbus, OH 43216-5000

SP0749 Defense Supply Center Columbus, Aerospace/Public Manufacturing, PO Box 3990, Columbus, OH 43216-3990

SP0750, UB Defense Supply Center Columbus, Land Solicitations/Awards, PO Box 16704, Columbus, OH 43216-5010

SP0759 Defense Supply Center Columbus, Land Public Manufacturing, PO Box 16704, Columbus, OH 43216-5010

SP0760, UB Defense Supply Center Columbus, Maritime Solicitations/Awards, PO Box 16704, Columbus, OH 43216-5010

SP0769 Defense Supply Center Columbus, Maritime Public Manufacturing, PO Box 16704, Columbus, OH 43216-5010

SP0770, UB Defense Supply Center Columbus, Commodities Solicitations/Awards, PO Box 16704, Columbus, OH 43216-5010

SP0779 Defense Supply Center Columbus, Commodities Public Manufacturing, PO Box 16704, Columbus, OH 43216-5010

SP0780 Defense Supply Center Columbus, Government Furnished Property Account, ATTN: DSCC-PAPB GFP, Building 20 A2N, 3990 East Broad Street, Columbus, OH 43216-5000

SP0799 Defense Supply Center Columbus-FCIM, PO Box 3990, Columbus, OH 43216-5000

SP0833, VS Defense National Stockpile Center, 8725 John J. Kingman Road, Suite 3339, Fort Belvoir, VA 22060-6223

SP0900, UD Defense Supply Center Columbus, Electronics, PO Box 16704, Columbus, OH 43216-5010

SP0905 Defense Supply Center Columbus, PO Box 16704, Columbus, OH 43216-5010

SP0910, U7 Defense Supply Center Columbus, Base Contracting, PO Box 16704, Columbus, OH 43216-5010

SP0920, W4 Defense Supply Center Columbus, Electro Mechanical, PO Box 16704, Columbus, OH 43216-5010

SP0930 Defense Supply Center Columbus, Switches, PO Box 16704, Columbus, OH 43216-5000

SP0935 Defense Supply Center Columbus, Connectors, PO Box 16704, Columbus, OH 43216-5000

SP0960 Defense Supply Center Columbus, Active Devices, PO Box 16704, Columbus, OH 43216-5000

SP0970 Defense Supply Center Columbus, PO Box 16704, Columbus, OH 43216-5000

SP0999 Defense Supply Center Columbus-FCIM, PO Box 16704, Columbus, OH 43216-5000

SP3100, WX Defense Distribution Center East, Directorate of Distribution Procurement, 2001 Mission Drive, New Cumberland, PA 17070-5001

SP3200, TV Defense Distribution Center West, Directorate of Distribution Procurement, Building S-4, Lathrop, CA 95330-5000

SP4400, X1 Defense Reutilization Marketing Service, 74 Washington Avenue North, Battle Creek, MI 49017-3092

SP4410, X1 Defense Reutilization Marketing Service, Special Contracts Divison ATTN: DRMS-PO 74 Washington Avenue North, Battle Creek, MI 49017-3092

SP4420, XI Defense Reutilization Marketing Service, ATTN: DRMS-PMG, APO AE 09096-5000

SP4700, YK, X8 DLA Administrative Support Center, Office of Contracting 8725 John J. Kingman Road, Suite 0119, Fort Belvoir, VA 22060-6221

SP4800 Defense Logistics Agency, Office of Small And Disadvantaged Business Utilization, 8725 John J. Kingman Road, Suite 1127, Fort Belvoir, VA 22060-6221

SP4900 Defense Logistics Support Command, Procurement Systems, Standard Procurement System Program, 8725 John J. Kingman Road, Fort Belvoir, VA 22060-6221

SP5200 Defense Logistics Support Command, Electronic Commerce Mall Operations, ATTN: DLSC-PRS, 8725 John J. Kingman Road, Fort Belvoir, VA 22060-6221

SAS01A UY DCMC Pacific-Australia, Unit 11009, APO AP 96551-1000

SBL00A MJ DCMC Northern Europe-Belgium, PSC 82, Box 002, APO AE 09724-5000

SCN01A WV DCMC Americas, 275 Bank Street, Suite 200, Ottawa, Canada K2P 2L6

SGR18A DCMC Southern Europe, Box 775, ATTN: DCMDI-GGA, APO AE 09096-5000

SJP10A Y9 DCMC Pacific-Japan, PSC 477, Box 39, FPO AP 96306-2739

SKR08A R1 DCMC Pacific-Korea (Kimhae), Unit 2000, APO AE 96214-5000

SML04A XC DCMC Pacific—Kuala Lumpur, American Embassy, APO AP 96535-5000

SPR01A QF DCMC Americas—Puerto Rico, Box DLA NSGA 7, FPO AA 34053-0006

SSA20A DCMC Southern Europe—Spain, PSC 61, Box 3000, APO AE 09642-5000

SSN05A DCMC Pacific—Singapore, PSC 470, Box 2700, FPO AP 96534-2100

SSR01A YE DCMC Southern Europe—Israel, American Embassy Unit 7228, APO AE 09830-7228

SSU01A U4 DCMC Saudi Arabia—Air, DCMCI Unit 61305, APO AE 09803-1305

SSU03A US DCMC Saudi Arabia—Land, DCMCI Unit 61301, APO AE 09803-1301

STA21A DCMC Southern Europe—Italy (Brindisi), PSC 817, Box 61, FPO AE 09622-0061

STA23 DCMC Southern Europe—Italy, Unit 31401, Box 71, APO AE 09630-0071

STR02A, TQ DCMC Southern Europe—Turkey, Unit 9050, APO AE 09822-9050

SUK12A, VN DCMC Northern Europe, PSC 821, Box 55, APO AE 09421-0055

SUK14A DCMC Northern Europe—UK Bristol, Unit 4825, APO AE 09456-4825

SUK15A DCMC Northern Europe—UK Rochester, PSC 30, Box 100, APO AE 09447-0100

SZA01A DCMC Pacific—New Zealand, PSC 467, Box 298, FPO AP 96531-2000

S0101A DCMC Birmingham, 1910 Third Avenue North, Room 201, Birmingham, AL 35203-2376

S0102A, WA DCMC Pemco Aeroplex Birmingham, PO Box 12447, Birmingham, AL 35202-2447

S0302A, WY DCMC Phoenix, Two Renaissance Square, 40 North Central Avenue, Suite 400, Phoenix, AZ 85004-4424

S0305A, SR DCMC Raytheon Tucson, PO Box 11337, Building 801, M/5 D-4, Tucson, AZ 85734-1337

S0506A, WL DCMD West, 222 North Sepulveda Boulevard, El Segundo, CA 90245-4320

S0507A, XR DCMC San Francisco, 1265 Borregas Avenue, Sunnyvale, CA 94089

S0512A, YC DCMC Van Nuys, 6230 Van Nuys Boulevard, Van Nuys, CA 91401-2713

S0513A, UG DCMC Santa Ana, 34 Civic Center Plaza, PO Box C-12700, Santa Ana, CA 92712-2700

S0514A, VH DCMC San Diego, 7675 Dagget Street, Suite 200, San Diego, CA 92111-2241

S0520A, VR DCMC San Francisco—ULDP San Jose, M/SX65, PO Box 367, San Jose, CA 95103-0367

S0530A, X9 DCMC Boeing Huntington Beach, 5301 Bolsa Avenue, Huntington Beach, CA 92647-2099

S0539A, QT DCMC Hughes, Los Angeles, Kilroy Airport Building Center, 2250 East Imperial Highway, Suite 11000, El Segundo, CA 90245-4320

S0542A, RY DCMC Boeing Canoga Park, PO Box 7922, 6633 Canoga Avenue, Canoga Park, CA 91303-7922

S0543A, QX DCMC Lockheed Martin Missiles & Space, PO Box 3504, Sunnyvale, CA 94088-3504

S0544A, TC DCMC Boeing Long Beach, 2401 East Wardlow, Mail Code, 54-79, Long Beach, CA 90807-4481

S0546A, QR DCMC Northrop Grumman Hawthorne, 2301 West 120th Street, Mail Code H3-2, Hawthorne, CA 90251-5032

S0602A, VK DCMC Denver, Orchard Place 2, Suite 200, 5975 Greenwood Plaza Boulevard, Englewood, CO 80111-4715

S0605A, RE DCMC Lockheed Martin Astronautics, PO Box 179, Denver, CO 80201-0179

S0701A, WB DCMC Hartford, 130 Darlin Street, East Hartford, CT 06108-3234

S0702A, UP DCMC Hartford-Stratford, 550 Main Street, Stratford, CT 06497-7574

S0703A, XT DCMC Hartford-Hamilton Standard, 1 Hamilton Road, Windsor Locks, CT 06096-0463

S0707A LF DCMC Sikorsky, 6900 Main Street, Stratford, CT 06497-9131

S0708A, T5 DCMC Pratt & Whitney, East Hartford, 400 Main Street, Mail Stop 104-08, East Hartford, CT 06108-0969

S1002A, WW DCMC Orlando, 3555 Maguire Boulevard, Orlando, FL 32803-3726

S1005A, XL DCMC Lockheed Martin, Orlando, 5600 Sand Lake Road, MP49, Orlando, FL 32819-8907

S1009A, V1 DCMC Orlando-Harris, 1425 Troutman Boulevard NE, Palm Bay, FL 32905-4102

S1011A, T2 DCMC Pratt & Whitney West Palm Beach, 17900 Beeline Highway, West Palm Beach, FL 33410-9600

S1103A, Y1 DCMC Atlanta, 805 Walker Street, Marietta, GA 30060-2789

S1104A DCMC Atlanta-Rockwell, PO Box 1356, Duluth, GA 30136-1357

S1109A, Z4 DCMC Clearwater, Gadsen Building, Suite 200, 9549 Koger Boulevard, St. Petersburg, FL 33702-2455

S1110A, Z5 DCMC Northrop Grumman, St. Augustine, 5000 U.S. Highway 1 North, St. Augustine, FL 32085-3447

S1111A, RK DCMC Lockheed Martin Marietta, 86 South Cobb Drive, Building B-2, Marietta, GA 30063-0260

S1211A, U8 DCMC Aircraft Program Management Office, 805 Walker Street, Marietta, GA 30060-2789

S1221A, X5 DCMC Northrop Grumman Melbourne 2000 West NASA Boulevard, PO Box 9650, Melbourne, FL 32902-9650

S1403A, YP DCMC Chicago, PO Box 66911, Chicago, IL 60666-0911

S1501A, WG DCMC Indianapolis, 8899 East 56th Street, Indianapolis, IN 46249-5701

S1505A, X2 DCMC Indianapolis-Raytheon, Communication Systems Division, 1010 Production, Mail Stop 03-07, Fort Wayne, IN 46808-4106

S1510A, Z9 DCMC Pacific-Honolulu, Box 64110, Camp H.M. Smith, Honolulu, HI 96861-4110

S1701A, YD DCMC Wichita, 271 West Third Street North, Suite 6000, Wichita, KS 67202-1212

S2101A DCMC Baltimore, 200 Towsontown Boulevard West, Towson, MD 21204-5299

S2103A, S2 DCMC Northrop Grumman Baltimore, PO Box 1693, Mail Stop 1285, Baltimore, MD 21203-1693

S2202A, UT DCMC East, 495 Summer Street, Boston, MA 02210-2184

S2203A, XX DCMC Boston—GTE, Government Systems Corp. 77 A Street, Needham, MA 02194-9123

S2205A, XF DCMC Raytheon, 2 Wayside Avenue, Burlington, MA 01803-0901

S2206A, Y3 DCMC Boston, 495 Summer Street, Boston, MA 02210-2138

S2207A, 7Q DCMC GE Lynn, 1000 Western Avenue, Lynn, MA 01910-0445

S2208A, NJ DCMC General Dynamics Defense Systems, 100 Plastics Avenue, Pittsfield, MA 01201-3677

S2209A, SQ DCMC Boston-Textron Systems Corporation, 201 Lowell Street, Wilmington, MA 01887-2941

S2303A, VW DCMC Detroit-Grand Rapids, Riverview Center Building, 678 Front Avenue NW, Grand Rapids, MI 49504-5352

S2305A, Y7 DCMC Detroit, U.S. Army Tank-Automotive Command, ATTN: DCMDE-GJD, Warren, MI 48397-5000

S2401A, WQ DCMC Twin Cities, 3001 Metro Drive, Bloomington, MN 55425-1573

S2404A, UR DCMC Baltimore, ATTN: Chesapeake 200 Towsontown, Boulevard West, Towson, MD 21204-5299

S2605A, XS DCMC St. Louis, 1222 Spruce Street, St. Louis, MO 63103-2812

S2606A, JZ DCMC Boeing St. Louis, PO Box 516, St. Louis, MO, 63166-0516

S3001A, YS DCMC Lockheed Martin Sanders, PO Box 0868, NHQ-539 Nashua, NH 03061-0868

S3101A, WT DCMC Springfield, Building 1, ARDEC, Picatinny, NJ 07806-5000

S3102A, UU DCMC Springfield-Allied Signal, Route 46, Mail Stop, 1-37, Teterboro, NJ 07608-1173

S3109A, WC DCMC Springfield-GEC/Kearfott/MIDSCO, PO Box 975, 164 Totowa Road, Wayne, NJ 07474-0975

S3110A, X7 DCMC Lockheed Martin, Delaware Valley, Mail Stop AE 2-W 1 Federal Street, Camden, NJ 08102-1013

S3305A, DCMC Syracuse-Buffalo, T.J. Dulski Federal Building, Room 1103, 111 West Huron Street, Buffalo, NY 14202-2392

S3306A, XU DCMC Syracuse, 615 Erie Boulevard West, Syracuse, NY 13402-2408

S3309A, VX DCMC Long Island, 605 Stewart Avenue, Garden City, NY 11530-4761

S3310A DCMC New York, Fort Wadsworth Building 120, 207 New York Avenue, Staten Island, NY 10305-5013

S3315A, YR DCMC Lockheed Martin, Federal Systems, Owego, 1801 State Route 17C, Owego, NY 13827-3998

S3316A, KK DCMC Northrop Grumman Bethpage, Mail Stop D23-025, South Oyster Bay Road, Bethpage, NY 11714-3593

S3319A DCMC Boston-Manchester, 2 Wall Street, Manchester, NH 03101-1621

S3619A, SB DCMC GE Aircraft Engines, Evendale, Mail Drop N-1, Cincinnati, OH 45215-6303

S3603, VB DCMC Cleveland, Admiral Kidd Building, 555 East 88th Street, Bratenahl, OH 44108-1068

S3605A, VL DCMC Dayton, Area C, Building 30, 1725 Van Patton Drive, Wright-Patterson AFB, OH 45433-5302

S3616A, X6 DCMC Cleveland—Lockheed Martin, Tactical Defense Systems, Akron, 1210 Massillon Road, Akron, OH 44315-0001

S3618A, YF DCMC Detroit—General Dynamics Lima, 1155 Buckeye Road, Lima, OH 45804-1898

S3620A, VA Defense Contract Management District International, 8725 John J. Kingman Road, Suite 3321, Fort Belvoir, VA 22060-6221

S3911A, X3 DCMC Pittsburgh, Federal Building, Room 1612, 1000 Liberty Avenue, Pittsburgh, PA 15222-4190

S3912A, XM DCMC Philadelphia-Reading, 201 Penn Street, Suite 201, Reading, PA 19601-4054

S3915A, XD DCMC Philadelphia, South 20th Street, Philadelphia, PA 19101-7699

S3916A, TU DCMC Boeing Philadelphia, PO Box 16859, Philadelphia, PA 19142-0859

S4201A, XY DCMC Philadelphia-United Defense Limited Partnership, PO Box 15512, York, PA 17405-1512

S4402A, Z7 DCMC Dallas, 1200 Main Street, Dallas, TX 75202-4399

S4404A, XN DCMC San Antonio, 615 East Houston, PO Box 1040, San Antonio, TX 78294-1040

S4407A, WN DCMC Raytheon E-Systems, Inc., PO Box 6379, Greenville, TX 75403-6379

S4408A, XZ DCMC Raytheon TI Systems, PO Box 660246, Mail Stop 256, Dallas, TX 75266-0246

S4418A, W1 DCMC Bell Helicopter Textron, PO Box 1605, Fort Worth, TX 76101-1605

S4419A, SL DCMC Lockheed Martin Tactical Aircraft Systems, PO Box 371, Fort Worth, TX 76101-0371

S4420A, WP DCMC Dallas-Lockheed Martin Vought Systems, PO Box 650003, Mail Stop PT, Dallas, TX 75265-0003

S4503A, R6 DCMC Thiokol, PO Box 524, Mail Stop Z-10, Brigham City, UT 84302-0524

S4601A DCMC General Dynamics Armament/Ord Systems, 128 Lakeside Avenue, Burlington, VT 05401-4985

S4801A, XW DCMC Seattle, Corporate Campus East III, 3009 112th Avenue NE, Suite 200, Bellevue, WA 98004-8019

S4804A, SP DCMC Boeing, Seattle, PO Box 3707, Seattle, WA 98124-2207

S4807A, WM DCMC Stewart and Stevenson, Inc., PO Box 457, Sealy, TX 77474-0457

Part 7—Defense Information Systems Agency Activity Address Numbers

DCA100, VC DITCO-NCR, ATTN: DTN 701 South Courthouse Road, Arlington, VA 22204-2109—(ZD10)

DCA200, VP Defense Information Technology Contracting Organization, Contracting Directorate, ATTN: DTS 2300 East Drive, Scott AFB, IL 62225-5406—(ZD11)

DCA300, 1F DITCO-Pacific, ATTN: DTP 1080 Vincennes Avenue, Suite 100, Pearl Harbor, HI 96860-4535—(ZD13)

DCA400, WK DITCO-Europe, ATTN: DTE, Unit 4235, Box 375, APO AE 09136-5375—(ZD14)

DCA500, KH DITCO-Alaska, ATTN: DTA 10441 Kuter Avenue, Suite 209, Elmendorf AFB, AK 99506-2615—(ZD15)

Part 8—National Imagery and Mapping Agency Activity Address Numbers

NMA100, BQ National Imagery and Mapping Agency, Support of Network and Enterprise Systems, ATTN: PCN/D-88, 4600 Sangamore Road, Bethesda, MD 20816-5003—(ZM10)

NMA201, Y2 National Imagery and Mapping Agency, Support of USIGS, ATTN: PCU/D-88, 4600 Sangamore Road, Bethesda, MD 20816-5003—(ZM21)

NMA202, Z2 National Imagery and Mapping Agency, Support of Systems Engineering, ATTN: PCE/D-88, 4600 Sangamore Road, Bethesda, MD 20816-5003—(ZM22)

NMA301, V2 National Imagery and Mapping Agency, Contracts in Support of Operations (East), ATTN: PCO-E/D-5, 4600 Sangamore Road, Bethesda, MD 20816-5003—(ZM31)

NMA302, YQ National Imagery and Mapping Agency, Contracts in Support of Operations (West), ATTN: PCO-W/L-13, 3200 South Second Street, St. Louis, MO 63118-3399—(ZM32)

NMA401, 8Y National Imagery and Mapping Agency, Contracts in Support of Corp Affairs (East), ATTN: PCC-E/D-6, 4600 Sangamore Road, Bethesda, MD 20816-5003—(ZM41)

NMA402, YZ National Imagery and Mapping Agency, Contracts in Support of Corp Affairs (West), ATTN: PCC-W/L-13, 3200 South Second Street, St. Louis, MO 63118-3399—(ZM42)

Part 9—Defense Threat Reduction Agency Activity Address Numbers

DTRA01, 8Z Defense Threat Reduction Agency/AM, 45045 Aviation Drive, Dulles, VA 20166-7517—(ZT01)

DTRA02, 0N Defense Threat Reduction Agency, Albuquerque Office, ATTN: Acquisitions Division (AOA), 1680 Texas Street SE, Kirtland AFB, NM 87115-5669—(ZT02)

Part 10—Miscellaneous Defense Activities Activity Address Numbers

MDA112, E0 T-ASA, Sacramento Contracting Office, 3116 Peacekeeper Way, McClellan AFB, CA 95652-1068—(ZP12)

MDA113, VE T-ASA, March Contracting Office, 1363 Z Street, Building 2730, March AFB, CA 92518-2717—(ZP13)

MDA210, SF Defense Finance and Accounting Service, Headquarters, 1931 Jefferson Davis Highway, Arlington, VA 22240-5291—(ZF21)

MDA220, BC Defense Finance and Accounting Service, Integrated Contracting Office, 1931 Jefferson Davis Highway, Arlington, VA 22240-5291—(ZF22)

MDA230, SU Defense Finance and Accounting Service, Cleveland Center, 1240 East 9th Street, Cleveland, OH 44199-2055—(ZF23)

MDA240, 9R Defense Finance and Accounting Service, Columbus Center, 4280 East 5th Avenue, Columbus, OH 43219-1879—(ZF24)

MDA250, SV Defense Finance and Accounting Service, Denver Center, 6760 East Irvington Place, Denver, CO 80279-8000—(ZF25)

MDA260, ST Defense Finance and Accounting Service, Contract Support Office-Indianapolis, 8899 East 56th Street, Building 1, Indianapolis, IN 46249-0240—(ZF26)

MDA280, SY Defense Finance and Accounting Service, Kansas City Center, 1500 East 95th Street, Kansas City, MO 64131—(ZF28)

MDA410, DR DoD Education Activity, ATTN: Procurement Division, 4040 North Fairfax Drive, 4th Floor, Arlington, VA 22203-1635—(ZK10)

MDA412, 9Y DoD Education Activity, European Procurement Office, Unit 29649, Box 6000, APO AE 09096-9649—(ZK12)

MDA414, Y4 DoD Education Activity, Education Supplies Procurement Office, 101 Buford Road, Richmond, VA 23235-5292—(ZK14)

MDA416, YT DoD Education Activity, Pacific Procurement Office, PSC 557, Box 1894, FPO AP 96379-1894—(ZK16)

MDA418, E1 DoD Education Activity, Education Supplies Procurement Office, 101 Buford Road, Richmond, VA 23235-5292—(ZK18)

MDA904 Maryland Procurement Office, ATTN: N363, 9800 Savage Road, Fort George G. Meade, MD 20755-6000—(ZD04)

MDA905, B4 Uniformed Services University of the Health Sciences, ATTN: Directorate of Contracting, 4301 Jones Bridge Road, Bethesda, MD 20814-4799—(ZD05)

MDA906, U5 TRICARE Management Activity, Contract Management Directorate, 16401 East Centretech Parkway, Aurora, CO 80011-9043—(ZD06)

MDA907 Purchasing and Contracting Office, Menwith Hill Station, APO AE 09210—(ZD07)

MDA908, 2X Virginia Contracting Activity, ATTN: DAP, PO Box 46563, Washington, DC 20050-6563—(ZD50)

MDA928 Armed Forces Radiobiology Research Institute, ATTN: Directorate of Contracting, USUHS, 4301 Jones Bridge Road, Bethesda, MD 20814-4799—(ZD28)

MDA946 Washington Headquarters Services, Real Estate and Facilities Directorate, ATTN: REFCO, The Pentagon-Butler Building, 1155 Defense Pentagon, Washington, DC 20301-1155—(ZD46)

MDA947, DP Pentagon Renovation Office, 100 Boundary Channel Drive, Arlington, VA 22202-3712—(ZD47)

MDA972, WS DARPA, Contracts Management Directorate, 3701 North Fairfax Drive, Arlington, VA 22203—(ZD72)

Part 11—Defense Microelectronics Activity Address Number

DMEA90, 2P Defense Microelectronics Activity, ATTN: Contracting Office, 4234-54th Street, Building 620, McClellan Air Force Base, CA 95652-1521—(ZD90)

Part 12—Ballistic Missile Defense Organization Activity Address Numbers

HQ0006, SS Ballistic Missile Defense Organization, Contracts Directorate, ATTN: CT 1725 Jefferson Davis Highway, Suite 809, Arlington, VA 22202-4131—(ZD60)

H95001, VV Joint National Test Facility, Program Operations Acquisition, 730 Irwin Avenue, Schriever Air Force Base, CO 80912-7300—(ZD61)

Part 13—Defense Commissary Agency Activity Address Numbers

DECA01, ZG Defense Commissary Agency, Marketing Business Unit, ATTN: DeCA/MB, 5258 Oaklawn Boulevard, Hopewell, VA 23860-7336—(ZD81)

DECA02, ZT Defense Commissary Agency, Contract Management Business Unit, ATTN: DeCA/RAS, 5258 Oaklawn Boulevard, Hopewell, VA 23860-7336—(ZD82)

DECA03, 0H Defense Commissary Agency, Eastern Region/Northern Area Office, ATTN: DeCA/EA-N-AEA, 2257 Huber Road, Fort George G. Meade, MD 20755-5520—(ZD83)

DECA04, BE Defense Commissary Agency, Contract Management Business Unit, ATTN: DeCA/RAE, 1300 E Avenue, Building P-11200, Fort Lee, VA 23801-1800—(ZD84)

DECA05, 0L Defense Commissary Agency, Eastern Region/Southern Area Office, ATTN: DeCA/EA-S-AEA, 60 West Maxwell Boulevard, Maxwell AFB, AL 36112-6307—(ZD85)

DECA06, 0J Defense Commissary Agency, Midwest Region, ATTN: DeCA/MW-RDA, 300 AFCOMS Way, Building 3030, Kelly AFB, TX 78241-6132—(ZD86)

DECA07, 0Z Defense Commissary Agency, Western/Pacific Region, ATTN: DeCA/WP-RDA, 3401 Acacia Street, Building 950, McClellan AFB, CA 95692-1154—(ZD87)

DECA08, 0K Defense Commissary Agency, Contract Management Business Unit, ATTN: DeCA/RAV, 1300 E Avenue, Building P-11200, Fort Lee, VA 23801-1800—(ZD88)

DECA09, 0U Defense Commissary Agency, Contract Management Business Unit, ATTN: DeCA/EU-RDA, Unit 3060, APO AE 09094—(ZD89)

Part 14—United States Special Operations Command Activity Address Numbers

USZA20, 1R AFSOC Specialized Contracting Office, 100 Bartley Street, Suite 208-W, Hurlburt Field, FL 32544-5273—(ZA20)

USZA21 SOPAC Contracting Office, Special Operations Command Pacific, Building 31-A, Box 64046, Thompson Road, Camp H.M. Smith, HI 96861-4046—(ZA21)

USZA22, 2U USSOCOM Headquarters, Directorate of Procurement, ATTN: SOAL-KB, 7701 Tampa Point Boulevard, MacDill AFB, FL 33621-5323—(ZA22)

USZA23 Integrated Aviation Systems 21 Workgroup, ATTN: AATD, Building 401, Fort Eustis, VA 23604-5577—(ZA23)

USZA24 USSOCOM, 24th STS, ATTN: MS-Z, Building 3-1947, Room 105, Pope AFB, NC 28308-5000—(ZA24)

USZA25, B6 USSOCOM, RD&A Contracting Office, ATTN: USASOC-RDA, 4118 Susquehanna Avenue, Room 109, Aberdeen Proving Ground, MD 21005-5001—(ZA25)

USZA26, 1Z USSOCOM, Procurement Management Office, ATTN: SOAL-KMR, 7701 Tampa Point Boulevard, MacDill AFB, FL 33621-5323—(ZA26)

USZA90 USSOCOM, JSOC, PO Box 70329, Fort Bragg, NC 28307-5000—(ZA90)

USZA91 USSOCOM, SOTF, ATTN: Contracting, PO Box 70660, Fort Bragg, NC 28307-5000—(ZA91)

USZA92, 1F USSOCOM, USASOC, ATTN: AOCO, Building E-2929, Fort Bragg, NC 28307-5200—(ZA92)

USZA93 Special Boat Squadron One, 3400 Tarawa Road, San Diego, CA 92155-5176—(ZA93)

USZA94, ZL Naval Special Warfare Group One, 3632 Guadalcanal Road, San Diego, CA 92155-5583—(ZA94)

USZA95, 1A USSOCOM, TAKO, Contracting Division, ATTN: AMSAT-D-TK, Building 401, Lee Boulevard, Office 209, Fort Eustis, VA 23604-5577—(ZA95)

USZA96, 1P Special Boat Squadron Two, ATTN: NAB Little Creek, 2220 Schofield Road, Suite 100, Norfolk, VA 23521-2845—(ZA96)

USZA97, B8 Naval Special Warfare Group Two, 3854 Helicopter Road, Norfolk, VA 23521-2944—(ZA97)

USZA98 Naval Special Warfare Center, 2446 Trident Way, San Diego, CA 92155-5494—(ZA98)

USZA99, B9 Naval Special Warfare Development Group, 1636 Regulus Avenue, Building 313, Virginia Beach, VA 23461-2299—(ZA99)

[FR Doc. 00-6164 Filed 3-15-00; 8:45 am]

BILLING CODE 5000-04-P